DEPARTMENT OF COMMERCE

National Oceanic and Atmospheric Administration

[Docket No. 0907081109-91435-03; I.D. GF001]

RIN 0648-ZC10

Availability of Grant Funds for Fiscal Year 2010 and Request for Comments on Proposed Implementation Guidelines for the Coral Reef Conservation Program

AGENCY: National Oceanic and Atmospheric Administration (NOAA), Commerce.

ACTION: Notice.

SUMMARY: The National Oceanic and Atmospheric Administration publishes this notice to provide the general public with a consolidated source of program and application information related to its competitive grant and cooperative agreement (CA) award offerings for fiscal year (FY) 2010. This Omnibus notice is designed to replace the multiple Federal Register notices that traditionally advertised the availability of NOAA's discretionary funds for its various programs. It should be noted that additional program initiatives unanticipated at the time of the publication of this notice may be announced through subsequent Federal Register notices. All announcements will also be available through the Grants.gov Web site. In addition, this notice solicits comments on Proposed Implementation Guidelines for the Coral Reef Conservation Program.

DATES: Proposals must be received by the date and time indicated under each program listing in the SUPPLEMENTARY INFORMATION section of this notice.

ADDRESSES: Proposals must be submitted to the addresses listed in the SUPPLEMENTARY INFORMATION section of this notice for each program. The Federal Register and Full Funding Opportunity (FFO) notices may be found on the Grants.gov Web site. The URL for Grants.gov is http://www.grants.gov.

FOR FURTHER INFORMATION CONTACT: Please contact the person listed within this notice as the information contact under each program.

SUPPLEMENTARY INFORMATION: Applicants must comply with all requirements contained in the Federal Funding Opportunity announcement for each of the programs listed in this omnibus notice. These Federal Funding Opportunities are available at http://www.grants.gov.

There is no guarantee that sufficient funds will be available to make awards for all qualified projects. The exact amount of funds that may be awarded will be determined in pre-award negotiations between the applicant and NOAA representatives. Publication of this notice does not oblige NOAA to award any specific project or to obligate any available funds.

It is possible that additional funding may be allocated beyond that stated for any listed program in the current or a future Fiscal Year. If additional allocations of funding are made available, the responsible program, at the discretion of the Program Manager, may fund additional qualified projects rather than re-compete the funding.

The list of entries below describe the basic information and requirements for competitive grant/cooperative agreement programs offered by NOAA. These programs are open to any applicant who meets the eligibility criteria provided in each entry. To be considered for an award in a competitive grant/cooperative agreement program, an eligible applicant must submit a complete and responsive application to the appropriate program office. An award is made upon conclusion of the evaluation and selection process for the respective program.

Table of Contents

I. Background

II. Electronic Access

III. Evaluation Criteria and Selection Procedures

IV. NOAA Project Competitions Listed by NOAA Mission Goals

V. NOAA Project Competitions

National Marine Fisheries Service (NMFS)

1. 2010 Hawaii Seafood Program

2. 2010 Marine Education and Training Mini Grant Program

3. 2010 Western Pacific Demonstration Projects

4. 2011 Mid-Atlantic Research Set-Aside Program

5. Fisheries Science Program—FY2010

6. NOAA Great Lakes Habitat Restoration Program Project Grants under the Great Lakes Restoration Initiative

7. Proactive Species Conservation Program

National Ocean Service (NOS)

1. Coastal and Estuarine Land Conservation Program—FY 2011 Competition

2. FY10 Bay Watershed Education and Training Program, Adult and Community Watershed Education in the Monterey Bay

3. FY2010 Integrated Ocean Observing System Community Modeling Environment To Support a Super-Regional Test Bed

4. Joint Hydrographic Center

5. Marine Debris Prevention and Outreach Partnership Grants

National Weather Service (NWS)

1. NWS Severe Weather Program

2. Tsunami Social Science Program

Oceanic and Atmospheric Research (OAR)

1. NOAA Marine Aquaculture Initiative 2010

Office of the Under Secretary (USEC)

1. Dr. Nancy Foster Scholarship Program

2. Environmental Literacy Grants for Informal/Nonformal Science Education

3. Financial Assistance To Establish Five NOAA Cooperative Science Centers at Minority Serving Institutions Announcement

National Environmental Satellite Data and Information Service (NESDIS)

1. Satellite Climate Data Record Program for 2010

VI. Request for Comments on Proposed Implementation Guidelines for the Coral Reef Conservation Program

I. Background

Each of the following grant opportunities provide: A description of the program, funding availability, statutory authority, catalog of federal domestic assistance (CFDA) number, application deadline, address for submitting proposals, information contacts, eligibility requirements, cost sharing requirements, and intergovernmental review under Executive Order 12372.

In addition, this notice announces information related to a request for comments on Proposed Implementation Guidelines for the Coral Reef Conservation Program.

II. Electronic Access

The full funding announcement for each program is available via the Grants.gov web site at: http://www.grants.gov. Electronic applications for the NOAA Programs listed in this announcement may be accessed, downloaded, and submitted to that Web site. The due dates and times for paper and electronic submissions are identical. NOAA strongly recommends that you do not wait until the application deadline to begin the application process through Grants.gov. Your application must be received and validated by Grants.gov no later than the due date and time. Please Note: Validation or rejection of your application by Grants.gov may take up to 2 business days after your submission.

Please consider the Grants.gov validation/rejection process in developing your application submission time line.

Grants.gov

Getting started with Grants.gov is easy. Users should note that there are two key features on the Web site: Find Grant Opportunities and Apply for Grants. The site is designed to support these two features and your use of them.

While you can begin searching for grant opportunities immediately, it is recommended that you complete the steps to Get Started (below) ahead of time. This will help ensure you are ready to go when you find an opportunity for which you would like to apply.

Applications From Individuals

In order for you to apply as an individual the announcement must specify that the program is open to individuals and it must be published on the Grants.gov Web site. Individuals must register with the Credential Provider (see Step 3 below) and with Grants.gov (see Step 4 below).

Individuals do not need a DUNS number to register (see Step 4 below) and submit their applications. The system will generate a default value in that field.

Grants.gov Application Submission and Receipt Procedures

This section provides the application submission and receipt instructions for NOAA program applications. Please read the following instructions carefully and completely.

1. Electronic Delivery. NOAA is participating in the Grants.gov Initiative that provides the Grant Community a single site to find and apply for grant funding opportunities. NOAA encourages applicants to submit their applications electronically through: http://www.grants.gov/applicants/apply_for_grants.jsp.

2. The following describes what to expect when applying on line using Grants.gov/Apply:

a. Instructions. On the site, you will find step-by-step instructions which enable you to apply for NOAA funds. The Grants.gov/Apply feature includes a simple, unified application process that makes it possible for applicants to apply for grants online. There are six “Get Started” steps to complete at Grants.gov. The information applicants need to understand and execute the steps can be found at: http://www.grants.gov/applicants/get_registered.jsp. Applicants should read the Get Started steps carefully. The site also contains registration checklists to help you walk through the process. NOAA recommends that you download the checklists and prepare the information requested before beginning the registration process. Reviewing and assembling required information before beginning the registration process will make the process fast and smooth and save time.

b. DUNS Requirement. All applicants applying for funding, including renewal funding, must have a Dun and Bradstreet Universal Data Numbering System (DUNS) number. The DUNS number must be included in the data entry field labeled “Organizational Duns” on the form SF-424. Instructions for obtaining a DUNS number can be found at the following Web site: http://www.grants.gov/applicants/get_registered.jsp.

c. Central Contractor Registry. In addition to having a DUNS number, applicants applying electronically through Grants.gov must register with the Federal Central Contractor Registry. The http://www.grants.gov Web site at http://www.grants.gov/applicants/get_registered.jsp provides step-by-step instructions for registering in the Central Contractor Registry. All applicants filing electronically must register with the Central Contractor Registry and receive a User Name and password from Grants.gov in order to apply on line. Failure to register with the Central Contractor Registry will result in your application being rejected by the Grants.gov portal. The registration process is a separate process from submitting an application. Applicants are, therefore, encouraged to register early. The registration process can take approximately two weeks to be completed. Therefore, registration should be done in sufficient time to ensure it does not impact your ability to meet required submission deadlines. You will be able to submit your application online anytime after you receive your e-authentication credentials.

d. Electronic Signature. Applications submitted through Grants.gov constitute submission as electronically signed applications. The registration and e-authentication process establishes the Authorized Organization Representative (AOR). When you submit the application through Grants.gov, the name of your authorized organization representative on file will be inserted into the signature line of the application. Applicants must register the individual who is able to make legally binding commitments for the applicant organization as the Authorized Organization Representative.

3. Instructions on how to submit an electronic application to NOAA via Grants.gov/Apply:

Grants.gov has a full set of instructions on how to apply for funds on its Web site at http://www.grants.gov/applicants/apply_for_grants.jsp. The following provides simple guidance on what you will find on the Grants.gov/Apply site. Applicants are encouraged to read through the page entitled, “Complete Application Package” before getting started.

Grants.gov allows applicants to download the application package, instructions and forms that are incorporated in the instructions, and work off line. In addition to forms that are part of the application instructions, there will be a series of electronic forms that are provided utilizing an Adobe Reader.

Note for the Adobe Reader, Grants.gov is only compatible with versions 8.1.1 and above. Please do not use lower versions of the Adobe Reader. Mandatory Fields on Adobe Reader Forms. In the Adobe forms you will note fields that appear with a yellow background and red outline color. These fields are mandatory and must be completed to successfully submit your application. Completion of SF-424 Fields First. The Adobe forms are designed to fill in common required fields such as the applicant name and address, DUNS number, etc., on all Adobe electronic forms. To trigger this feature, an applicant must complete the SF-424 information first. Once it is completed the information will transfer to the other forms.

Customer Support. The Grants.gov Web site provides customer support via (800) 518-4726 (this is a toll-free number) or through e-mail at support@grants.gov. The Contact Center is open from 7 a.m. to 9 p.m. Eastern time, Monday through Friday, except federal holidays, to address Grants.gov technology issues. For technical assistance to program related questions, contact the number listed in the Program Section of the program to which you are applying.

4. Timely Receipt Requirements and Proof of Timely Submission.

a. Electronic Submission. All applications must be received by http://www.grants.gov/applicants/apply_for_grants.jsp by the Time on the due date established for each program. Proof of timely submission is automatically recorded by Grants.gov. An electronic time stamp is generated within the system when the application is successfully received by Grants.gov. The applicant will receive an acknowledgement of receipt and a tracking number from Grants.gov with the successful transmission of their application. Applicants should print this receipt and save it, along with facsimile receipts for information provided by facsimile, as proof of timely submission. When NOAA successfully retrieves the application from Grants.gov, Grants.gov will provide an electronic acknowledgment of receipt to the e-mail address of the AOR. Proof of Timely submission shall be the date and time that Grants.gov receives your application. Applications received by Grants.gov, after the established due date for the program will be considered late and will not be considered for funding by NOAA. Please Note: Validation or rejection of your application by Grants.gov may take up to 2 business days after your submission. Please consider the Grants.gov validation/rejection process in developing your application submission time line.

NOAA suggests that applicants submit their applications during the operating hours of Grants.gov, so that if there are questions concerning transmission, operators will be available to walk you through the process. Submitting your application during the Contact Center hours will also ensure that you have sufficient time for the application to complete its transmission prior to the application deadline. Applicants using dial-up connections should be aware that transmission may take some time before Grants.gov receives it. Grants.gov will provide either an error or a successfully received transmission message. Grants.gov reports that some applicants abort the transmission because they think that nothing is occurring during the transmission process. Please be patient and give the system time to process the application. Uploading and transmitting many files, particularly electronic forms with associated XML schemas, will take some time to be processed.

III. Evaluation Criteria and Selection Procedures

NOAA has standardized the evaluation and selection process for its competitive assistance programs. There are two separate sets of evaluation criteria and selection procedures (see below), one for project proposals, and the other for fellowship, scholarship, and internship programs.

Project Proposals Review and Selection Process

Some project proposals may include a pre-application process that provides for feedback to applicants that responded to a call for letters of intent or pre-proposals; however, not all programs will include this pre-application. If a program has a pre-application process, it will be described in the Summary Description section of the announcement and the deadline will be specified in the Application Deadline section.

Upon receipt of a full application by NOAA, an initial administrative review will be conducted to determine compliance with requirements and completeness of the application. A merit review will also be conducted to produce a rank order of the proposals.

The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

Evaluation Criteria. Each reviewer (one mail and at least three peer review panel reviewers) will individually evaluate and rank proposals using the following evaluation criteria:

1. Importance and/or relevance and applicability of a proposed project to the program goals: This ascertains whether there is intrinsic value in the proposed work and/or relevance to NOAA, Federal (other than NOAA), regional, state, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The project's budget is evaluated to determine if it is realistic and commensurate with the project needs and timeframe.

5. Outreach and education: NOAA assesses whether this project provides a focused and effective education and outreach strategy regarding its mission to protect the Nation's natural resources.

Selection Factors. The merit review ratings will be used to provide a rank order to the Selecting Official for final funding recommendations. A Program Officer may first make recommendations to the Selecting Official applying the selection factors listed below. The Selecting Official shall award in the rank order unless the proposal is justified to be selected out of rank order based upon one or more of the following factors:

1. Availability of funding.

2. Balance/distribution of funds:

a. Geographically,

b. By type of institutions,

c. By type of partners,

d. By research areas, and

e. By project types.

3. Whether the project duplicates other projects funded or considered for funding by NOAA or other federal agencies.

4. Program priorities and policy factors.

5. Applicant's prior award performance.

6. Partnerships and/or participation of targeted groups.

7. Adequacy of information necessary for NOAA to make a National Environmental Policy Act determination and draft necessary documentation before funding recommendations are made to the Grants Officer.

Fellowship, Scholarship and Internship Programs

Review And Selection Process. Some fellowship, scholarship and internship programs may include a pre-application process that provides for feedback to the applicants that have responded to a call for letters of intent or pre-proposals; however, not all programs will include this pre-application. If a program has a pre-application process, the process will be described in the Summary Description section of the announcement and the deadline will be specified in the Application Deadline section.

Upon receipt of a full application by NOAA, an initial administrative review will be conducted to determine compliance with requirements and completeness of the application. A merit review will also be conducted to produce a rank order of the proposals.

The NOAA Program Officer may review the ranking of the proposals and make recommendations to the Selecting Official based on the administrative and/or merit review(s) and selection factors listed below. The Selecting Official selects proposals after considering the administrative and/or merit review(s) and recommendations of the Program Officer. In making the final selections, the Selecting Official will award in rank order unless the proposal is justified to be selected out of rank order based upon one or more of the selection factors below. The Program Officer and/or Selecting Official may negotiate the funding level of the proposal. The Selecting Official makes final award recommendations to the Grants Officer authorized to obligate the funds.

Evaluation Criteria. Each reviewer (one mail and at least three peer review panel reviewers) will individually evaluate and rank proposals using the following evaluation criteria.

1. Academic record and statement of career goals and objectives of the student.

2. Quality of project and applicability to program priorities.

3. Recommendations and/or endorsements of the student.

4. Additional relevant experience related to diversity of education; extra-curricular activities; honors and awards; and interpersonal, written, and oral communications skills.

5. Financial need of the student.

Selection Factors. The merit review ratings will be used to provide a rank order by the Selecting Official for final funding recommendations. A Program Officer may first make recommendations to the Selecting Official by applying the selection factors listed below. The Selecting Official shall award in the rank order unless the proposal is justified to be selected out of rank order based upon one or more of the following factors:

1. Availability of funds.

2. Balance/distribution of funds:

a. Across academic disciplines,

b. By types of institutions, and

c. Geographically.

3. Program-specific objectives.

4. Degree in scientific area and type of degree sought.

IV. NOAA Project Competitions Listed by NOAA Mission Goals

1. Protect, Restore, and Manage the Use of Coastal and Ocean Resources Through an Ecosystem Approach to Management

Summary Description: NOAA's goal to protect, restore, and manage the use of living marine and coastal and ocean resources is critical to public health and the vitality of the U.S. economy. With its Exclusive Economic Zone of 3.4 million square miles, the United States manages the largest marine territory of any nation in the world. The value of the ocean economy to the United States is more than $138 billion. The value added annually to the national economy by the commercial and recreational fishing industry alone is over $47 billion. U.S. aquaculture sales total almost $1 billion annually. To achieve balance among ecological, environmental, and social influences, NOAA has adopted an ecosystem approach to management, a concept that is central to the recommendations of the 2004 report of the U.S. Commission on Ocean Policy and the Administration's response to it, the U.S. Ocean Action Plan. NOAA's Ecosystems Goal responds to a specific mandate from Congress for NOAA to be a lead federal agency in this conservation, management, and restoration effort. Recent statutory revisions (e.g., the Magnuson-Stevens Reauthorization Act and the Marine Debris Research, Prevention and Reduction Act) and emerging legislative changes are broadening this mission for NOAA, opening a new chapter in NOAA's stewardship of the nation's living marine resources and management of the coasts. Funded proposals should help achieve the following outcomes:

1. Healthy and productive coastal and marine ecosystems that benefit society

2. A well-informed public that acts as a steward of coastal and marine ecosystems

Program Names:

1. NOAA Marine Aquaculture Initiative 2010

2. Dr. Nancy Foster Scholarship Program

3. Marine Debris Prevention and Outreach Partnership Grants

4. Proactive Species Conservation Program

5. 2010 Hawaii Seafood Program

6. 2010 Marine Education and Training Mini Grant Program

7. Fisheries Science Program—FY2010

8. 2010 Western Pacific Demonstration Projects

9. NOAA Great Lakes Habitat Restoration Program Project Grants under the Great Lakes Restoration Initiative

10. Financial Assistance To Establish five NOAA Cooperative Science Centers at Minority Serving Institutions Announcement

11. 2011 Mid-Atlantic Research Set-Aside Program

12. FY10 Bay Watershed Education and Training Program, Adult and Community Watershed Education in the Monterey Bay

13. Coastal and Estuarine Land Conservation Program—FY 2011 Competition

14. FY2010 Integrated Ocean Observing System Community Modeling Environment to Support a Super-Regional Test Bed

2. Serve Society's Needs for Weather and Water Information

Summary Description: Floods, droughts, hurricanes, tornadoes, tsunamis, wildfires, and other severe weather events cause $11.4 billion in damage each year in the United States. Weather is directly linked to public health and safety, and nearly one-third of the U.S. economy (approximately $4 trillion, in 2005 dollars) is sensitive to weather and climate. With so much at stake, NOAA's role in understanding, observing, forecasting, and warning of environmental events is expanding. NOAA will continue to collect and analyze environmental data and to issue forecasts and warnings that help protect health, life, and property and enhance the U.S. economy. Future needs can be better met by exploring new concepts and applications through robust weather and water research. A commitment to public benefits shapes NOAA's role within the U.S. weather enterprise, including its partners in the private sector, academia, and government. These partners add value to NOAA services and help disseminate critical environmental information. We will work more closely with our partners and will develop new partnerships so that the public understands and is satisfied with our information. Together, NOAA and its partners will continuously improve existing service and expand to support evolving national needs, including space weather, freshwater and coastal ecosystems, and air quality prediction services.

Funded proposals should help achieve the following outcomes:

1. Reduced loss of life, injury, and damage to the economy

2. Better, quicker, and more valuable weather and water information to support improved decisions

3. Increased customer satisfaction with weather and water information and services Program Names:

1. Tsunami Social Science Program

2. NWS Severe Weather Program

3. Financial Assistance To Establish five NOAA Cooperative Science Centers at Minority Serving Institutions Announcement

4. FY2010 Integrated Ocean Observing System Community Modeling Environment to Support a Super-Regional Test Bed

3. Understand Climate Variability and Change To Enhance Society's Ability To Plan and Respond

Summary Description: Climate variability and change influence the wellbeing of society, the environment, and the economy. Numerous long-term changes in climate already have been observed. The changes include those in arctic surface temperatures and sea ice, ocean salinity and carbonate chemistry, and frequency and intensity of extreme weather such as heat and cold waves, droughts, and floods. Decision makers are challenged with addressing major climatic events compounded by issues such as population growth, economic growth, public health concerns, changes in geographic distribution of marine species, loss of habitat, and changes in land-use practices. They require a new generation of climate services. Through legislation, executive orders, and international agreements, NOAA has a long-standing commitment to provide reliable and timely climate research and information. To meet the demand for expanded services, the Climate Goal will focus research to improve understanding of complex climate processes and to enhance the predictive capacity of the global climate system. The Climate Goal's priority is to focus on the development and delivery of climate information and services that assist decision makers with national and international policy decision making, and assessing risks to ecosystems and the U.S. economy in sectors and areas that are sensitive to impacts from climate variability and change.

Funded proposals should help achieve the following outcomes:

1. A predictive understanding of the global climate system on time scales of weeks to decades to a century with quantified uncertainties sufficient for making informed and reasoned decisions

2. Use of NOAA's climate products by climate-sensitive sectors and the climate-literate public to support their plans and decisions

Program Names:

1. Dr. Nancy Foster Scholarship Program

2. Satellite Climate Data Record Program for 2010

3. Financial Assistance To Establish five NOAA Cooperative Science Centers at Minority Serving Institutions Announcement

4. FY2010 Integrated Ocean Observing System Community Modeling Environment to Support a Super-Regional Test Bed

4. Provide Critical Support for NOAA's Mission

Summary Description: Satellite Subgoal: Environmental satellites are a major component of NOAA's global efforts to better observe, understand, and predict various environmental phenomena. The backbone of the NOAA satellites includes the Geostationary Operational Environmental Satellite (GOES) and Polar-orbiting Operational Environmental Satellite (POES) programs. GOES and POES are operated to provide critical atmospheric, oceanic, climatic, solar, and space data to protect life and property across the United States. The satellites carry scientific instruments and communications equipment to support the delivery of weather information and aid search and rescue operations. NOAA is acquiring the new generation of each satellite system, including ground processing systems. In concert with the National Aeronautics and Space Administration (NASA), acquisition of the next-generation geostationary satellite (GOES-R) series is underway. The Department of Defense (DoD), NASA, and NOAA are joined with industry partners to build the follow-on series of polar orbiting satellites, the National Polarorbiting Operational Environmental Satellite System. NOAA's satellite systems support other NOAA offices in the delivery of improved severe storm warnings, weather forecasts, climate predictions, oceanic and ecosystems research and analyses, and satellite-aided search and rescue services.

Fleet Services Subgoal: NOAA operates a fleet of 20 ships and 10 aircraft to ensure continuous observation of critical environmental conditions. The Fleet Services Subgoal manages these platforms to increase the number of ship operating days and aircraft flight hours to meet NOAA's data collection requirements. It provides ship and aircraft support for NOAA's four Mission Goals, upgrades NOAA's fleet of ships and aircraft, and partners with the programs to facilitate the development, demonstration, and deployment of new observation platforms, such as Autonomous Underwater Vehicles and Unmanned Aerial Systems.

Modeling And Observing Infrastructure (MObI) Subgoal: The MObI Subgoal's analyses and operational capabilities provide critical infrastructure and support for the integrated monitoring and improved understanding of the Earth's environment. The subgoal enables NOAA's operational forecast products and services and provides NOAA a strategic investment portfolio recommendation encompassing observing, modeling, and high-performance computing capabilities. NOAA's internal forecasting, assessment, and stewardship capabilities—as well as the capabilities of partners and customers—require integrated oceanic and atmospheric data. Furthermore, NOAA's operations require modeling support, high-performance computing, observing system design and analysis, research and development of improved modeling and data assimilation, and guidance on the architecture of observation and data management systems. MObI also manages the integration of NOAA's observing systems and associated data with those of other federal agencies and nations under the GEO System of Systems framework.

Leadership And Corporate Services Subgoal: The Leadership and Corporate Services Subgoal strives to produce cost-effective, value-added solutions in the cross-cutting areas of Line Office and Headquarters management, workforce management, acquisition and grants, facilities, financial services, homeland security, IT, and administrative services. This is accomplished by effective and strategic leadership at corporate and Line Office levels that optimize agency performance and mission accomplishment through streamlined, results oriented processes. The development of long-range facility and IT modernization plans provides the investment framework to ensure that NOAA's facility and IT portfolio will continue to support a safe, secure, and state-of-the-art work environment. The development of streamlined acquisition and workforce management processes will enable NOAA to effectively fulfill its research and operational missions with a competent workforce and effective third-party partnerships. The public demand for financial stewardship and accountability requires NOAA to maintain an effective financial and internal control program. The national dependence on NOAA's services and information products compels effective continuity of operations planning and all-hazards incident management.

Funded proposals should help achieve the following outcomes:

1. A continuous stream of satellite data and information with the quality and accuracy to meet users requirements for spatial and temporal sampling and timeliness of delivery

2. Provision of the number of ship operating days and aircraft flight hours needed to meet NOAA's data collection requirements with high customer satisfaction

3. Integration of observing system architectures, data management architectures, and computing and modeling capabilities to better enable NOAA's mission

4. One NOAA working together—guided by a clear strategic vision for planning, programming, and execution—to achieve NOAA's goals

5. Secure, reliable, and robust information flows within NOAA and out to the public

6. Modern and sustainable facilities providing safe and effective work environment

7. Efficient and effective financial, administrative, and acquisition management services

8. Workforce management processes that support a diverse and competent workforce

9. Integrated Homeland Security and emergency response capabilities

Program Names:

1. Dr. Nancy Foster Scholarship Program

2. Financial Assistance To Establish five NOAA Cooperative Science Centers at Minority Serving Institutions Announcement

3. Environmental Literacy Grants for Informal/Nonformal Science Education

5. Support the Nation's Commerce With Information for Safe, Efficient, and Environmentally Sound Transportation

Summary Description: NOAA responds to the specific demands of air, sea, and surface transportation with consistent, timely, and accurate information to aid sound and routine operational decision making. All modes of transportation are affected by significant challenges as they operate in the elements of nature. The natural environment is, in turn, affected by our transportation systems. Safe, efficient, and environmentally sound transportation systems are crucial to the nation's commerce, and thus to the nation's economy. For example, more than 78 percent of U.S. overseas trade by weight and 38 percent by value comes and goes by ship. Nine million barrels of oil come through U.S. ports daily, and 8,000 foreign vessels make 50,000 port calls annually. Vessel traffic in the U.S. Marine Transportation System, which ships over 95 percent of foreign trade by tonnage, will double by 2020 and contribute roughly $2 trillion annually to the U.S. economy. NOAA provides information products for transportation systems, including marine and surface weather forecasts, navigational charts, real-time oceanographic information, and Global Positioning System augmentation. NOAA works with the Federal Aviation Administration and industry to improve the weather resilience of aviation systems. NOAA also provides emergency response services to save lives and money and to protect the coastal environment, including hazardous material spill response and search and rescue functions. NOAA works with federal, state, and local partners to ensure the efficient and environmentally sound operation and development of ports.

Funded proposals should help achieve the following outcomes:

1. Safe, secure, efficient, and seamless movement of goods and people in the U.S. transportation system

2. Environmentally sound development and use of the U.S. transportation system

Program Names:

1. Financial Assistance to Establish five NOAA Cooperative Science Centers at Minority Serving Institutions Announcement

2. Joint Hydrographic Center

3. FY2010 Integrated Ocean Observing System Community Modeling Environment to Support a Super-Regional Test Bed

V. NOAA Project Competitions

National Marine Fisheries Service (NMFS)

2010 Hawaii Seafood Program

Summary Description: The National Marine Fisheries Service (NOAA/NMFS) is soliciting competitive applications for the 2010 Hawaii Seafood Program. The 2010 Hawaii Seafood Program is designed to help strengthen and to sustain the economic viability of Hawaii's fishing and seafood industry through activities that promotes Hawaii fisheries products as high-quality and safe domestic seafood produced by a responsible and well-managed fishery. Projects may seek support for cooperative seafood safety research, technical assistance, and/or seafood education.

Funding Availability: Total funding available under this notice is anticipated to be approximately $1,000,000. Actual funding availability for this program is contingent upon FY 2010 Congressional appropriations. Proposals in any amount may be submitted. Award amounts will be determined by the proposals and available funds. There is no set minimum or maximum amount, within the available funding, for any award. There is also no limit on the number of applications that can be submitted by the same applicant; however, multiple applications submitted by the same applicant must clearly identify different projects. If an application for a financial assistance award is selected for funding, NOAA/NMFS has no obligation to provide any additional funding in connection with that award in subsequent years. Notwithstanding verbal or written assurance that may have been received, pre-award costs are not allowed under the award unless approved by the NOAA Grants Officer.

Statutory Authority: The statutory authority for the Hawaii Seafood Program is 15 U.S.C. 713c-3(d).

Catalog of Federal Domestic Assistance (CFDA) Number: 11.452, Unallied Industry Projects.

Application Deadline: Proposals must be received by 5 p.m. Hawaii Standard Time March 5, 2010.

Address for Submitting Proposals: Proposals should be submitted through Grants.gov. For those applicants without internet access, proposals should be submitted to NOAA Federal Program Officer, Pacific Islands Regional Office, 1601 Kapiolani Blvd., Suite 1110, Honolulu, Hawaii, 96814.

Information Contacts: If you have any questions regarding this proposal solicitation, please contact Scott W.S. Bloom at the NOAA/NMFS Pacific Islands Regional Office, 1601 Kapiolani Blvd, Honolulu, Hawaii, 96814, by phone at 808-944-2218, or by e-mail at Scott.Bloom@noaa.gov.

Eligibility: Eligible applicants are individuals, institutions of higher education, other nonprofits, commercial organizations, international organizations, foreign governments, organizations under the jurisdiction of foreign governments, and state, local and Indian tribal governments. Federal agencies, or employees of Federal agencies, are not eligible to apply. The Department of Commerce/National Oceanic and Atmospheric Administration (DOC/NOAA) is strongly committed to broadening the participation of historically black colleges and universities, Hispanic serving institutions, tribal colleges and universities, and institutions that work in underserved areas. The Hawaii Seafood Program encourages proposals involving any of the above institutions.

Cost Sharing Requirements: No cost sharing or matching is required under this program.

Intergovernmental Review: Applications under this program are subject to Executive Order 12372, Intergovernmental Review of Federal Programs.

2010 Marine Education and Training Mini Grant Program

Summary Description: The National Marine Fisheries Service (NOAA/NMFS) is soliciting competitive applications for the 2010 Pacific Islands Region Marine Education and Training Mini-Grant Program. Projects are being solicited to improve communication, education, and training on marine resource issues throughout the region and increase scientific education for marine-related professions among coastal community residents, including indigenous Pacific islanders, Native Hawaiians, and other underrepresented groups in the region.

Funding Availability: Total funding available under this notice is anticipated to be approximately $150,000. Actual funding availability for this program is contingent upon FY 2010 Federal appropriations. Proposals in excess of $15,000 are unlikely to be funded. Award amounts will be determined by the proposals and available funds. There is no limit on the number of applications that can be submitted by the same applicant; however, multiple applications submitted by the same applicant must clearly identify different projects. If an application for a financial assistance award is selected for funding, NOAA/NMFS has no obligation to provide any additional funding in connection with that award in subsequent years. Notwithstanding verbal or written assurance that may have been received, pre-award costs are not allowed under the award unless approved by the NOAA Grants Officer.

Statutory Authority: Authority for the 2010 Pacific Islands Region Marine Education and Training Mini-Grant Program is provided under 16 U.S.C. 1855j.

Catalog of Federal Domestic Assistance (CFDA) Number: 11.452, Unallied Industry Projects.

Application Deadline: Proposals must be received by 5 p.m. Hawaii Standard Time March 5, 2010.

Address for Submitting Proposals: Proposals should be submitted through Grants.gov. For those applicants without internet access, proposals should be submitted to NOAA Federal Program Officer, Pacific Islands Regional Office, 1601 Kapiolani Blvd., Suite 1110, Honolulu, Hawaii, 96814.

Information Contacts: If you have any questions regarding this proposal solicitation, please contact Scott W.S. Bloom at the NOAA/NMFS Pacific Islands Regional Office, 1601 Kapiolani Blvd, Honolulu, Hawaii, 96814, by phone at 808-944-2218, or by e-mail at Scott.Bloom@noaa.gov.

Eligibility: Eligible applicants are individuals, institutions of higher education, nonprofits, commercial organizations, state, local and Indian tribal governments. Federal agencies, or employees of Federal agencies are not eligible to apply. The Department of Commerce/National Oceanic and Atmospheric Administration (DOC/NOAA) is strongly committed to broadening the participation of historically black colleges and universities, Hispanic serving institutions, tribal colleges and universities, and institutions that work in undeserved areas. The 2010 Marine Education and Training Mini-Grant Program encourages proposals involving any of the above institutions.

Cost Sharing Requirements: No cost sharing or matching is required under this program.

Intergovernmental Review: This federal funding opportunity is subject to Executive Order 12372, “Intergovernmental Review of Federal Programs.” An applicant should consult the office or official designated as the single point of contact in his or her State for more information on the process the State requires to be followed in applying for assistance, if the State has selected the program for review. The names and addresses of these contacts are available at http://www.whitehouse.gov/omb/grants/spoc.html. 2010 Western Pacific Demonstration Projects.

Summary Description: The National Marine Fisheries Service (NOAA/NMFS) is soliciting applications for financial assistance for Western Pacific Demonstration Projects. Eligible applicants are encouraged to submit projects intended to foster and promote use of traditional indigenous fishing practices and/or develop or enhance Western Pacific community-based fishing opportunities benefiting the island communities in American Samoa, Guam, Hawaii, and the Northern Mariana Islands.

Funding Availability: Total funding available under this notice is anticipated to be approximately $500,000. Actual funding availability for this program is contingent upon FY 2010 Congressional appropriations. Proposals in any amount may be submitted. Award amounts will be determined by the proposals and available funds. There is no set minimum or maximum amount, within the available funding, for any award. There is also no limit on the number of applications that can be submitted by the same applicant; however, multiple applications submitted by the same applicant must clearly identify different projects. If an application for a financial assistance award is selected for funding, NOAA/NMFS has no obligation to provide any additional funding in connection with that award in subsequent years. Notwithstanding verbal or written assurance that may have been received, pre-award costs are not allowed under the award unless approved by the NOAA Grants Officer.

Statutory Authority: Authority for the Western Pacific Demonstration Projects is provided under 16 U.S.C. 1855 note.

Catalog of Federal Domestic Assistance (CFDA) Number: 11.452, Unallied Industry Projects

Application Deadline: Pre-proposals (letters of intent) must be received at the Pacific Islands Regional Office by 5 p.m. Hawaii Standard Time, February 18, 2010. NOAA reserves 15 days to review pre-proposals against NOAA's mission requirements. If an applicant submitting a pre-proposal is invited to submit a full proposal, it must be received by 5 p.m. Hawaii Standard Time, 75 days after publication in the Federal Register. Anticipated start dates will be July 1, 2010.

Address for Submitting Proposals: Proposals should be submitted through Grants.gov. For those applicants without internet access, proposals should be submitted to NOAA Federal Program Officer, Pacific Islands Regional Office, 1601 Kapiolani Blvd., Suite 1110, Honolulu, Hawaii 96814.

Information Contacts: Points of contact are Scott W.S. Bloom (NMFS), NOAA Federal Program Officer for Western Pacific Demonstration Projects, Pacific Islands Region, National Marine Fisheries Service, 1601 Kapiolani Boulevard, Suite 1110, Honolulu, Hawaii 96814; or by telephone at 808-944-2218, or by e-mail at Scott.Bloom@noaa.gov; or Charles Kaaiai, Indigenous Coordinator for the Western Pacific Fishery Management Council, 1164 Bishop Street, Suite 1400, Honolulu, Hawaii, 96813 or by telephone at 808-522-8220, or by e-mail at Charles.Kaaiai@noaa.gov.

Eligibility: Eligible applicants are limited to communities in the Western Pacific Regional Fishery Management Area, as defined at section 305(i)(2)(D) of the Magnuson-Stevens Fishery Conservation and Management Act (Magnuson-Stevens Act), 16 U.S.C. 1855(i)(2)(D); and meet the standards for determining eligibility set forth in section 305(i)(2)(B) of the Act, 16 U.S.C. 1855(i)(2)(B). The eligibility criteria developed by the Council and approved by the Secretary was published in the Federal Register on April 16, 2002 (67 FR 18512, 18514). The published criteria supplement those set forth in section 305(i)(2)(B) of the Magnuson-Stevens Act and shall be applied equally in determining a party's eligibility to participate in the demonstration project. Given this, applicants must:

1. Be located within the Western Pacific Regional Fishery Management Area (American Samoa, the Northern Mariana Islands, Guam or Hawaii);

2. Consist of community residents descended from aboriginal people indigenous to the western Pacific area who conducted commercial or subsistence fishing using traditional fishing practices in the waters of the western Pacific;

3. Consist of community residents who reside in their ancestral homeland;

4. Have knowledge of customary practices relevant to fisheries of the western Pacific;

5. Have traditional dependence on fisheries of the western Pacific;

6. Experience economic or other barriers that have prevented full participation in the western Pacific fisheries and, in recent years, have not had harvesting, processing or marketing capability sufficient to support substantial participation in fisheries in the area; and,

7. Develop and submit a Community Development Plan to the Western Pacific Council and the National Marine Fisheries Service. For the purposes of determining eligibility to participate and receive funding assistance authorized under Section 111(b) of the Sustainable Fisheries Act, Public Law 104-297, as amended, and published in 16 U.S.C. 1855 note, a project proposal shall be considered a Community Development Plan.

Cost Sharing Requirements: No cost sharing or matching is required under this program.

Intergovernmental Review: Applications under this program are subject to Executive Order 12372, “Intergovernmental Review of Federal Programs”. An applicant should consult the office or official designated as the single point of contact in his or her State for more information on the process the State requires to be followed in applying for assistance, if the State has selected the program for review. The names and addresses of these contacts are available at http://www.whitehouse.gov/omb/grants/spoc.html. 2011 Mid-Atlantic Research Set-Aside Program.

Summary Description: NMFS, in cooperation with the Mid-Atlantic Fishery Management Council (Council), is soliciting proposals under the 2011 Mid-Atlantic Research Set-Aside (RSA) Program that address research priorities concerning the summer flounder, scup, black sea bass, Loligo squid, Illex squid, Atlantic mackerel, butterfish, bluefish, and tilefish fisheries. The Mid-Atlantic RSA Program was created by the Council as a vehicle to fund research projects through the sale of research quota. Under this program, the Council may set aside up to 3-percent of the total allowable landings (TAL) from the above listed species to fund selected projects. Proceeds from the sale of research quota are used to pay for research costs and to compensate fishing vessels that harvest research quota. Any additional funds, generated through the sale of the fish harvested under the research quota, above the cost of the research activities, shall be retained by the vessel owner as compensation for use of his/her vessel. Participating vessels may be authorized to harvest and land fish in excess of Federal possession limits and/or during fishery closures. No Federal funds are provided for research under this notification. NMFS and the Council will give priority to funding proposals addressing the research needs identified in Section I-B of the FFO.

Funding Availability: No Federal funds are provided for research under this notification, but rather the opportunity to fish with the catch sold to generate research funds and to provide compensation for harvesting of RSA quota. The Federal Government may issue an exempted fishing permit (EFP) to selected projects, which may provide special fishing privileges, such as exemption from possession limits and fishery closures. Funds generated from RSA landings shall be used to cover the cost of the research activities, including vessel costs, and to compensate boats for expenses incurred during the collection of the set-aside species. For example, the funds may be used to pay for gear modifications, monitoring equipment, additional provisions (e.g., fuel, ice, food for scientists), or the salaries of research personnel. The Federal Government is not liable for any costs incurred by the researcher or vessel owner should the sale of RSA quota not fully reimburse the researcher or vessel owner for his/her expenses. Any additional funds, generated through the sale of the fish harvested under the research quota, above the cost of the research activities, shall be retained by the vessel owner as compensation for use of his/her vessel. The Council, in consultation with the Commission, will incorporate RSA quotas for each of the set-aside species for the 2011 fishing year into the Council's annual quota specification recommendations. NMFS will consider the recommended level of RSA as part of the associated rulemaking process. RSA quota available to applicants under the 2011 Mid-Atlantic RSA Program will be established through the 2011 quota specification rulemaking process. The Council is scheduled to adopt quotas, including RSA quotas, by the end of 2010. Based on Council recommendations, NMFS may choose to adopt less than 3 percent of TAL as a set-aside, or decide not to adopt any set-aside for a given fishery. The value of RSA quota will be dictated by market conditions prevailing at the time the compensation fishing trips are conducted. To help researchers develop proposals and proposal budgets for the 2011 Mid-Atlantic RSA Program, recent quota amount and quota value information is listed below. This information is for guidance purposes only; it does not reflect actual RSA quota amounts or quota values that will be in effect for fishing year 2011. RSA quota amounts are based on 2010 FMP specifications proposed by the Council. RSA quota values are based on landings data taken from Fisheries of the United States, 2008. This information is listed below in the following format: Species/RSA quota amount (lb)/RSA quota total value/RSA value per pound. -Summer flounder/663,900 lb/$1,656,845/2.50 lb -Scup/423,300 lb/$478,327/$1.13 lb -Black sea bass/69,000 lb/$192,076/$2.78 lb -Loligo squid/1,256,635 lb/$1,173,033/$0.93 lb -Bluefish/877,914 lb/$376,279/$0.42 lb -Butterfish/33,069 lb/$17,282/$0.52 lb -Illex squid/1,587,328 lb/$0/$0.24 lb (no Illex squid was requested) -Atlantic mackerel/0 lb/$0/$0.14 (no Atlantic mackerel was requested) -Tilefish/0 lb/$0/$2.26 lb (no tilefish RSA was allocated) Starting in 2010, successful projects may not have more than 50 vessels authorized to conduct compensation fishing at any given time unless sufficient rationale can demonstrate that more than 50 vessels are needed. In addition, principal investigators and project coordinators should be aware that it may take NMFS up to 4 weeks to process requests to revise the list of vessels that are authorized to conduct compensation fishing.

Statutory Authority: Statutory authority for this program is provided under sections 303(b)(11), 402(e), and 404(c) of the Magnuson-Stevens Fishery Conservation and Management Act, 16 U.S.C.1853(b)(11), 16 U.S.C. 1881a(e), and 16 U.S.C. 1881(c), respectively. Statutory authority for entering into cooperative agreements and other financial agreements with non-profit organizations is found at 15 U.S.C. 1540. Framework Adjustment 1 to the Summer Flounder, Scup, and Black Sea Bass FMP, Atlantic Mackerel, Squid, and Butterfish FMP, Bluefish FMP, and Tilefish FMP established the Mid-Atlantic RSA Program (66 FR 42156, August 10, 2001), which is codified in regulations at 50 CFR 648.21(g).

Catalog of Federal Domestic Assistance (CFDA) Number: 11.454, Unallied Management Projects

Application Deadline: Applications must be received on or before 5 p.m. EST on March 22, 2010. Proposals received after the established deadline will be rejected and returned to the sender without consideration. For applications submitted through Grants.gov, a date and time receipt indication will be the basis of determining timeliness. For those not having access to the Internet, one signed original and two hard copy applications must be received by the established due date for the program at the following address: Cheryl A. Corbett, NMFS, Northeast Fisheries Science Center, 166 Water Street, Woods Hole, MA 02543. Use of U.S. mail or another delivery service must be documented with a receipt. No facsimile or electronic mail proposals will be accepted. January 1, 2011, should be used as the proposed start date on proposals, unless otherwise directed by the Program Officer.

Address for Submitting Proposals: To apply for this NOAA Federal Funding Opportunity, please submit applications to http://www.grants.gov and use funding opportunity number NOAA-NMFS-NEFSC-2011-2002247. Applicants who do not have Internet access may submit their application to Cheryl A. Corbett, NMFS, Northeast Fisheries Science Center, 166 Water Street, Woods Hole, MA 02543.

Information Contacts: Information may be obtained from Kathy Collins, Public Affairs Specialist, Mid-Atlantic Fishery Management Council, by phone 302-674-2331 ext. 14, or via e-mail at kcollins1@mafmc.org, or Cheryl A. Corbett, Cooperative Programs Specialist, NMFS, Northeast Fisheries Science Center, 166 Water Street, Woods Hole, MA 02543, or by phone at 508-495-2070, or fax at 508-495-2004, or via e-mail at cheryl.corbett@noaa.gov; or from Ryan Silva, Cooperative Research Liaison, NMFS, Northeast Regional Office, by phone 978-281-9326, or via e-mail at ryan.silva@noaa.gov.

Eligibility: 1. Eligible applicants include institutions of higher education, hospitals, other nonprofits, commercial organizations, individuals, and state, local, and Native American tribal governments. Federal agencies and institutions are not eligible to receive Federal assistance under this notice. Additionally, employees of any Federal agency or Regional Fishery Management Council are ineligible to submit an application under this program. However, Council members who are not Federal employees may submit an application. 2. DOC/NOAA supports cultural and gender diversity and encourages women and minority individuals and groups to submit applications to the RSA program. In addition, DOC/NOAA is strongly committed to broadening the participation of historically black colleges and universities, Hispanic serving institutions, tribal colleges and universities, and institutions that work in underserved areas. DOC/NOAA encourages proposals involving any of the above institutions. 3. DOC/NOAA encourages applications from members of the fishing community and applications that involve fishing community cooperation and participation.

Cost Sharing Requirements: None required.

Intergovernmental Review: Applicants will need to determine if their state participates in the intergovernmental review process. This information can be found at the following Web site: http://www.whitehouse.gov/omb/grants/spoc.html. This information will assist applicants in providing either a Yes or No response to Item 16 of the Application Form, SF-424, entitled “Application for Federal Assistance.” Fisheries Science Program—FY2010.

Summary Description: The NOAA Chesapeake Bay Office (NCBO) is directed by congressional mandate to provide technical assistance in: (1) Identifying science-based management options for restoration and protection of living resources and their habitats; (2) monitoring and assessing the status of living resources and their habitats; and, (3) evaluating the effectiveness of management plan implementation. For FY2010, it is anticipated that approximately $500k could be made available for projects that address multiple species interactions and stock assessment research as identified in the Program Priority Section (I.B.1 and I.B.2) of FFO.

Funding Availability: This solicitation announces approximately $500,000 in federal funds that may be available in FY 2010 in award amounts to be determined by the proposals. It is expected that these funds will provide support for 5-10 projects at approximately $50,000 to $100,000 per project. Funding for subsequent years of work will depend on the performance of grantees to successfully conduct activities as determined by the Federal Program Officer through performance reports, site visits, and compliance with award conditions. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: The Secretary is authorized under the Fish and Wildlife Coordination Act, as amended, at 16 U.S.C. 661, to provide assistance to, and cooperate with, Federal, State, and public or private agencies and organizations in the development, protection, rearing, and stocking of all species of wildlife, resources thereof, and their habitat, in controlling losses of the same from disease or other causes, and in minimizing damages from overabundant species.

Catalog of Federal Domestic Assistance (CFDA) Number: 11.457, Chesapeake Bay Studies

Application Deadline: Full proposals must be received by 5:00 pm eastern time March 5, 2010.

Address for Submitting Proposals: Applications submitted in response to this announcement are strongly encouraged to submit via http://www.grants.gov. Electronic access to the full funding announcement for this program is also available at this site. If internet access is unavailable, paper applications (a signed original and two copies) may also be submitted to the NOAA Chesapeake Bay Office, 410 Severn Avenue, Suite 107A, Annapolis, MD 21403. No facsimile applications will be accepted. Institutions are encouraged to submit Letters of Intent to NCBO within 30 days of this announcement to aid in planning the review processes. Letters of Intent may be submitted via e-mail to Derek.Orner@noaa.gov. Information should include a general description of the program administration proposal.

Information Contacts: For further information about the Chesapeake Bay Fisheries Science Program, please visit the NOAA Chesapeake Bay Office Web site at: http://noaa.chesapeakebay.net/. For assistance with forms, application requirements, or submission procedures please contact Derek Orner, NOAA Chesapeake Bay Office; 410 Severn Avenue, Suite 107A, Annapolis, MD 21403, or by phone at 410-267-5676, or fax to 410-267-5666, or via Internet at derek.orner@noaa.gov.

Eligibility: Eligible applicants are institutions of higher education, other nonprofits, commercial organizations, foreign governments, organizations under the jurisdiction of foreign governments, international organizations, state, local and Indian tribal governments. Federal agencies or institutions are not eligible to receive Federal assistance under this notice. The Department of Commerce/National Oceanic and Atmospheric Administration (DOC/NOAA) is strongly committed to broadening the participation of historically black colleges and universities, Hispanic serving institutions, tribal colleges and universities, and institutions that work in underserved areas. The NCBO encourages proposals involving any of the above institutions.

Cost Sharing Requirements: No cost sharing is required under this program, however, the NCBO strongly encourages applicants to share as much of the project costs as possible. Funds from other Federal awards may not be considered matching funds. The nature of the contribution (cash versus in kind) and the amount of matching funds will be taken into consideration in the review process. Priority selection will be given to proposals that propose cash rather than in-kind contributions.

Intergovernmental Review: Applications under this program (CFDA 11.457, Chesapeake Bay Studies) are subject to Executive Order 12372, Intergovernmental Review of Federal Programs. NOAA Great Lakes Habitat Restoration Program Project Grants under the Great Lakes Restoration Initiative

Summary Description: NOAA delivers funding and technical expertise to restore Great Lakes coastal habitats. These habitats support valuable fisheries and protected resources; improve the quality of our water; provide recreational opportunities for the public's use and enjoyment; and buffer our coastal communities from the impacts of changing lake levels. Projects funded through NOAA have strong on-the-ground habitat restoration components that provide social and economic benefits for people and their communities in addition to long-term ecological habitat improvements. Through this solicitation, NOAA seeks to openly compete funding available for habitat restoration under the Great Lakes Restoration Initiative as proposed in the President's FY2010 Budget. Applications should be submitted for any project that is to be considered for this funding, even for those projects already submitted as applications to other NOAA competitions including the recent American Recovery and Reinvestment Act solicitation. Competition will ensure that the most beneficial restoration projects are selected to realize significant ecological gains and ensure that projects are truly “shovel-ready.” Applications selected for funding through this solicitation will be implemented through a grant or cooperative agreement, with awards dependent upon the amount of funds made available to NOAA for this purpose by the Environmental Protection Agency. NOAA anticipates up to $10 million may be available for Great Lakes coastal habitat restoration; typical awards are expected to range between $1 million to $1.5 million. Funds will be administered by NOAA's Great Lakes Habitat Restoration Program (GLHRP).

Funding Availability: NOAA anticipates that up to $10 million may be available for Great Lakes coastal habitat restoration; typical awards are expected to range between $1 million and $1.5 million. NOAA will not accept applications requesting less than $500,000 or more than $2.5 million of federal funds under this solicitation. There is no guarantee that sufficient funds will be available to make awards for all applications. The number of awards to be made as a result of this solicitation will depend on the number of eligible applications received, the amount of funds requested for habitat restoration projects by the applicants, the merit and ranking of the applications, and the amount of funds made available. The exact amount of funds that may be awarded will be determined in pre-award negotiations between the applicant and NOAA representatives. Publication of this document does not obligate NOAA to award any specific project or obligate all or any parts of any available funds.

Statutory Authority: The Secretary of Commerce is authorized under the following statutes to provide grants and cooperative agreements for habitat restoration:—Fish and Wildlife Coordination Act 16 U.S.C. 661, as amended by the Reorganization Plan No. 4 of 1970;—Magnuson-Stevens Fishery Conservation and Management Reauthorization Act of 2006, 16 U.S.C. 1891a;—Marine Debris Research, Prevention, and Reduction Act, 33 U.S.C. 1951 et seq.;—Coastal Zone Management Act of 1972, as amended, 16 U.S.C. 1451 et seq.—National Marine Sanctuaries Act, 16 U.S.C. 1431 et seq.

Catalog of Federal Domestic Assistance (CFDA) Number: 11.463, Habitat Conservation.

Application Deadline: Applications must be postmarked, provided to a delivery service, or received by www.grants.gov by 11:59 p.m. EST on February 16, 2010. Use of U.S. mail or another delivery service must be documented with a receipt. No facsimile or electronic mail applications will be accepted. Please Note: It may take Grants.gov up to two (2) business days to validate or reject the application. Please keep this in mind in developing your submission timeline.

Address for Submitting Proposals: If an applicant does not have internet access, a hard copy application must be postmarked, or provided to a delivery service and documented with a receipt, by 11:59 p.m. EST on February 16, 2010 and sent to: NOAA Restoration Center (F/HC3) NOAA Fisheries, Office of Habitat Conservation, 1315 East West Highway, Rm. 14730, Silver Spring, MD 20910 Attn: Great Lakes Habitat Restoration Project Applications. Applications postmarked or provided to a delivery service after 11:59 p.m. EST February 1, 2010 will not be considered for funding. Applications submitted via the U.S. Postal Service must have an official postmark; private metered postmarks are not acceptable. In any event, applications received later than 5 business days following the postmark closing date will not be accepted. No facsimile or electronic mail applications will be accepted. Paper applications should be printed on 8.5″ x 11″ paper (12-point font with 1″ margins; reviewers generally prefer 1.5 line spacing) and should not be bound in any manner.

Information Contacts: For further information contact Jenni Wallace at (301) 713-0174 ext. 183, or by e-mail at Jenni.Wallace@noaa.gov. Prospective applicants are invited to contact NOAA staff before submitting an application to discuss whether their project ideas are within the scope of the Great Lakes Restoration Initiative's objectives and NOAA's mission and goals. Additional information on habitat restoration can be found on the World Wide Web at http://www.nmfs.noaa.gov/habitat/restoration/.

Eligibility: Eligible applicants are institutions of higher education, non-profits, industry and commercial (for profit) organizations, organizations under the jurisdiction of foreign governments, international organizations, and state, local and Indian tribal governments. Applications from Federal agencies or employees of Federal agencies will not be considered. Federal agencies are strongly encouraged to work with states, non-governmental organizations, municipal and county governments, conservation corps organizations and others that are eligible to apply. The Department of Commerce/National Oceanic and Atmospheric Administration (DOC/NOAA) is strongly committed to broadening the participation of historically black colleges and universities, Hispanic-serving institutions, tribal colleges and universities, and institutions that work in under-served areas. The GLHRP encourages applications involving any of the above institutions.

Cost Sharing Requirements: There is no statutory matching requirement for this funding. NOAA typically leverages its Federal funding with matching contributions and/or partnerships from a broad range of sources in the public and private sector to implement locally important coastal habitat restoration. To this end, applicants are encouraged to demonstrate a 1:1 non-federal match for GLHRP funds requested to conduct the proposed project. Applicants with less than 1:1 match will not be disqualified, however, applicants should note that cost sharing is an element considered in Evaluation Criterion #4 “Project Costs” (Section V.A.4. of the FFO). Match to NOAA funds can come from a variety of public and private sources and can include in-kind goods and services and volunteer labor.

Applicants are permitted to combine contributions from non-federal partners, as long as such contributions are not being used to match any other federal funds and are available within the project period stated in the application. Federal sources cannot be considered for matching funds, but can be described in the budget narrative to demonstrate additional leverage.

Applicants are also permitted to apply federally negotiated indirect costs in excess of Federal share limits as described in Section IV.E. “Funding Restrictions” of the FFO. Applicants whose proposals are selected for funding will be bound by the percentage of cost sharing reflected in the award document signed by the NOAA Grants Officer. Successful applicants should be prepared to carefully document matching contributions, including the overall number of volunteers and in-kind participation hours devoted to habitat restoration projects. Letters of commitment for any secured resources that will be used as match for an award under this solicitation should be submitted as an attachment to the application, see Section IV.B. of the FFO.

Intergovernmental Review: Applications submitted by state and local governments are subject to the provisions of Executive Order 12372, “Intergovernmental Review of Federal Programs.” Any applicant submitting an application for funding is required to complete item 19 on SF-424 regarding clearance by the State Single Point of Contact (SPOC) established as a result of EO 12372. To find out about and comply with a State's process under EO 12372, the names, addresses and phone numbers of participating SPOCs are listed in the Office of Management and Budget's home page at: http://www.whitehouse.gov/omb/grants/spoc.html.

Proactive Species Conservation Program

Summary Description: The NMFS is seeking to provide federal assistance, in the form of grants or cooperative agreements, to support conservation efforts for the current list of marine and anadromous species under the Proactive Species Conservation Program. The program supports voluntary conservation efforts designed to conserve marine and anadromous species before they reach the point at which listing as threatened or endangered under the Endangered Species Act (ESA) becomes necessary. Such proactive conservation efforts can serve as an efficient, non-regulatory, and cost-effective means of managing potentially at-risk species. To raise awareness of potentially at-risk species and to foster their proactive conservation, the NMFS created a ‘species of concern' list in April 2004 (69 FR 19975). ‘Species of concern' are species that are potentially at risk of becoming threatened or endangered or may potentially require protections under the ESA, yet for which sufficient data are lacking. The species-of-concern status carries no procedural or regulatory protections under the ESA. The list of species of concern and descriptions of each species are available at http://www.nmfs.noaa.gov/pr/species/concern/#list. Under this solicitation, any state, territorial, tribal, or local entity that has authority to manage or regulate these species or activities that affect these species is eligible to apply to this grant program. This document describes how to submit proposals for funding in fiscal year (FY) 2010 and how the NMFS will determine which proposals will be funded. This document should be read in its entirety, as some information has changed from the previous year.

Funding Availability: This solicitation announces that approximately $200,000 may be available for distribution in FY 2010 under the PSCP; there are no restrictions on minimum or maximum funding requests. Applicants may apply for funds for up to 5 years (see below) so the total amount requested over the life of the project may be more than $200,000, but the limit for FY 2010 should be $200,000. Actual funding availability for this program is contingent upon Fiscal Year 2010 Congressional appropriations. Applicants are hereby given notice that funds have not yet been appropriated for this program. There is no guarantee that sufficient funds will be available to make awards for all qualified projects.

Publication of this notice does not oblige the NMFS to award any specific project or to obligate any available funds; and, if an application is selected for funding, the NMFS has no obligation to provide any additional funding in connection with that award in subsequent years. There is also no limit on the number of applications that can be submitted by the same applicant. Multiple applications submitted by the same applicant must clearly identify distinct projects, and single applications should not include multiple, unrelated projects. Notwithstanding verbal or written assurance that may have been received, pre-award costs are not allowed under the award unless approved by the Grants Officer in accordance with 2 CFR Part 225.

Statutory Authority: Authority for the Proactive Species Conservation Program is provided by 16 U.S.C. 661.

Catalog of Federal Domestic Assistance (CFDA) Number: 11.472, Unallied Science Program.

Application Deadline: Applications must be postmarked, provided to a delivery service, or received by http://www.grants.gov/ by 11:59 p.m. Eastern Standard Time on February 11, 2010. Use of a delivery service other than U.S. mail must be documented with a receipt. PLEASE NOTE: It may take Grants.gov up to two business days to validate or reject an application. Please keep this in mind when developing your submission timeline.

Address for Submitting Proposals: For applicants without internet access, paper applications can be mailed to NOAA/NMFS/Office of Protected Resources, Attn: Dwayne Meadows, NMFS Office of Protected Resources F/PR3, 1315 East-West Highway, SSMC3, Silver Spring, MD 20910. If it is necessary to submit a paper application, then one signed original and two signed copies (including supporting information) must be submitted; paper applications should not be bound in any manner.

Information Contacts: If you have any questions regarding this proposal solicitation, please contact Dwayne Meadows at the NMFS Office of Protected Resources F/PR3, Endangered Species Division, 1315 East-West Highway, Silver Spring, MD 20910, by phone at 301-713-1401 x199, or by e-mail at Dwayne.Meadows@noaa.gov. You may also contact one of the following people in your region for further guidance: Sarah Laporte, Northeast Regional Office (Sarah.Laporte@noaa.gov, 978-282-8477), Calusa Horn, Southeast Regional Office (Calusa.Horn@noaa.gov, 727-824-5312), Krista Graham, Pacific Islands Regional Office (Krista.Graham@noaa.gov, 808-944-2238), Susan Wang, Southwest Regional Office (Susan.Wang@noaa.gov, 562-980-4199), Eric Murray, Northwest Regional Office (Eric.Murray@noaa.gov, 503-872-2791), Brad Smith, Alaska Regional Office (Brad.Smith@noaa.gov, 907-271-3023).

Eligibility: Eligible applicants are U.S. state, territorial, tribal, or local governments that have regulatory or management authority over one or more SOC or activities that affect one or more SOC. A current list of SOC can be found at http://www.nmfs.noaa.gov/pr/species/concern/#list or obtained from the Office of Protected Resources (see Section VII, Agency Contacts, of the FFO). Applicants are not eligible to submit a proposal under this program if they are a federal employee; however, federal employees may serve as Cooperators. In addition, NMFS employees are not allowed to actively engage in the preparation of proposals or write letters of support for any application. However, if applicable, NMFS employees can write a letter verifying that they are collaborating with a particular project. NMFS contacts (see Section VII of the FFO) are available to provide information regarding programmatic goals and objectives associated with the PSCP, other ongoing ESA programs, regional funding priorities, and, along with other Federal Program Officers, can provide information on application procedures and completion of required forms.

Cost Sharing Requirements: There are no cost-sharing or matching requirements under this solicitation.

Intergovernmental Review: Applications submitted by state and local governments are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOC's are listed on the Office of Management and Budget's home page at: http://www.whitehouse.gov/omb/grants/spoc.html.

National Ocean Service (NOS) Coastal and Estuarine Land Conservation Program—FY 2011 Competition

Summary Description: The purpose of this document is to advise eligible coastal states and territories (requirements described below) that OCRM is soliciting coastal and estuarine land conservation project proposals for competitive funding under the CELCP. States and territories must have submitted to NOAA a CELCP plan on or before February 19, 2010, in order to be eligible to participate in the FY2011 funding opportunity. Funding is contingent upon the availability of FY 2011 Federal appropriations. It is anticipated that projects funded under this announcement will have a grant start date between June 1, 2011 and October 1, 2011. The program authority is 16 U.S.C. 1456-1.

Funding Availability: NOAA anticipates that approximately 20-60 projects may be included on a competitively-ranked list of projects that are ready and eligible for funding in FY 2011. Funding for projects selected for the prioritized list is contingent upon availability of Federal appropriations for FY 2011. Applicants are hereby given notice that funds have not yet been appropriated for this program. The FY 2011 President's Budget request for CELCP is $15 million. Annual appropriated funding levels for the CELCP have ranged from $8-$50 million from FY 2002-2009. Eligible coastal states and territories may select and submit up to three projects for this competition, including subsequent phases of projects previously funded by CELCP. Applicants may include multiple parcels in a project proposal if the parcels are related; however, please note that NOAA will evaluate project readiness and feasibility for completion within the required 18 month timeframe. For such projects, NOAA recommends that applicants limit the scope to acquiring no more than 5 separate parcels (including parcels that would be acquired directly with CELCP funds as well as those that would be counted an in-kind match). See Section III.C of the FFO for additional details. The maximum amount that may be requested for the Federal share of each project is $3,000,000.

The amount of funding per award in previous years has ranged from $105,000 to $3,000,000 for competitively selected projects, depending on the amount requested, size, and type of project. There is no guarantee that sufficient funds will be available to make awards for all qualified projects. Publication of this notice and the list of projects deemed ready and eligible does not oblige NOAA to award any specific project or to obligate any available funds. If an applicant incurs any costs prior to receiving an award agreement signed by an authorized NOAA official, they do so at their own risk of these costs not being included under the award. In no event will NOAA or the Department of Commerce be responsible for proposal preparation or other project costs if this program fails to receive funding or is cancelled because of other agency priorities. Recipients and sub-recipients are subject to all Federal laws and agency policies, regulations, and procedures applicable to Federal financial assistance awards. NOAA is committed to continual improvement of the grants process and accelerating the award of financial assistance to qualified recipients in accordance with the recommendations of the NOAA Program Review Team. If funding is appropriated in FY 2011 for projects recommended through this competition, NOAA will request final grant applications from successful applicants as soon as feasible in order to expedite the grant process (see VI. Award Administration Information). Applicants must be in good standing with all existing NOAA grants in order to receive funds.

Statutory Authority: Authority for the CELCP is 16 U.S.C. 1456-1 (formerly authorized under 16 U.S.C. 1456d).

Catalog of Federal Domestic Assistance (CFDA) Number: 11.419, Coastal Zone Management Administration Awards.

Application Deadline: Applications must be received by Grants.gov or be delivered to the OCRM office (address listed in this announcement) no later than 6:00 p.m. Eastern Daylight Time on April 9, 2010. No facsimile or electronic mail applications will be accepted. Paper applications delivered after the deadline will not be accepted, regardless of postmark date. Please note that it may take Grants.gov up to two (2) business days to validate or reject an application. Please keep this in mind when developing your submission timeline; do not wait until the last day to submit an application.

Address for Submitting Proposals: The proposal may be submitted electronically through Grants.gov online at: http://www.grants.gov or by mailing a signed original and four copies of each proposal to Attn: Elaine Vaudreuil, NOAA, Ocean and Coastal Resource Management, National Policy and Evaluation Division (N/ORM7), 1305 East-West Highway, SSMC4, Station 10657, Silver Spring MD 20910.

Information Contacts: CELCP Program Manager, Elaine Vaudreuil, Phone: (301) 713-3155 ext 103, E-mail: Elaine.Vaudreuil@noaa.gov.

Eligibility: Only coastal states and territories with Coastal Zone Management Programs or National Estuarine Research Reserves approved under the CZMA, and that have submitted a draft CELCP plan to NOAA on or before February 19, 2010, are eligible to participate in the FY 2011 CELCP competition. A list of the status of each state and territory's CELCP plan, including the states and territories eligible for this competition, is available at http://coastalmanagement.noaa.gov/land/media/CELCPplans_web.pdf, and will be updated as of February 19, 2010. The designated lead agency for implementing CELCP in each state or territory (“lead agency”) is eligible to submit projects for funding under this competition. The lead agency is presumed to be the agency designated as lead for implementing the state or territory's coastal management program, as approved under the CZMA, unless otherwise designated by the Governor. A list of lead contacts for each state and territory is available on the CELCP Web site at http://coastalmanagement.noaa.gov/land/media/celcpstateleadcontacts.pdf. The designated lead agency may solicit, and include in their application, project proposals from additional eligible state or territorial agencies, local governments as defined at 15 CFR 24.3, or entities eligible for assistance under section 306A(e) of the CZMA (16 U.S.C. 1455a(e)), provided that each has the authority to acquire and manage land for conservation purposes. As defined at 15 CFR 24.3, local government means a county, municipality, city, town, township, local public authority (including any public and Indian housing agency under the United States Housing Act of 1937), school district, special district, intrastate district, council of governments (whether or not incorporated as a nonprofit corporation under State law), any other regional or interstate government entity, or any agency or instrumentality of a local government. Under section 306A(e) of the CZMA, an eligible entity may be a local government, an areawide agency designated under Chapter 41, Subchapter II, Section 3334 of Title 42, a regional agency, or an interstate agency. The public agencies/entities, or types of entities, considered to be eligible within each state or territory may be identified within the state or territory's CELCP plan. A list of Web sites for state or territory CELCP plans is available at http://coastalmanagement.noaa.gov/land/media/CELCPplans_web.pdf. The lead agency will be responsible for: Ensuring that projects are consistent with land conservation priorities outlined in the state or territory's draft or approved CELCP plan; reviewing proposals for completeness and eligibility requirements; prioritizing proposals according to CELCP plan criteria; and nominating up to three proposals to the national selection process at a requested funding level not to exceed $3 million per proposal. For selected projects, NOAA may make financial assistance awards to the lead agency, which will be responsible for ensuring that allocated funds are used for the purposes of and in a manner consistent with this program, including any funds awarded to an eligible sub-applicant. NOAA may, with concurrence of the state or territory's CELCP lead agency, make a grant directly to the identified sub-applicant in order to expedite completion of an approved project. In such cases, the sub-applicant (as the grant recipient) will be responsible for ensuring that allocated funds are used for the approved purposes and in a manner consistent with this program. Interested parties should contact the appropriate CELCP lead in each state or territory for additional information on their project solicitation process. (See http://coastalmanagement.noaa.gov/land/media/celcpstateleadcontacts.pdf for a list of lead contacts for each state and territory.)

Cost Sharing Requirements: Federal funds awarded under this program must be matched with non-Federal funds at a ratio of 1:1, with the following exception. In accordance with 48 U.S.C. 1469a(d), the 1:1 matching requirement is waived for any project under $200,000 for Insular Areas, defined as the jurisdictions of the U.S. Virgin Islands, Guam, American Samoa, and the Commonwealth of the Northern Mariana Islands. For any project equal to or greater than $200,000, the matching requirement would be waived for the portion under $200,000. The 1:1 match requirement would apply to the portion equal to or above $200,000. Please note: Eligible applicants choosing to apply 48 U.S.C. 1469a(d) should note the use of the waiver and the total amount of funds requested to be waived in the matching funds section of the project proposal. Non-Federal matching funds may be derived from state, local, non-governmental or private sources in the form of cash or in-kind contributions. Eligible sources of match and other cost-sharing requirements are specified in Section 2.7 of the CELCP Guidelines as well as in the 2009 CELCP authorization (16 U.S.C. 1456-1), and are outlined in detail in Section III.C. “Other Criteria that Affect Eligibility” of the FFO. The following costs may not be counted toward the non-Federal matching share: (1) Costs associated with CELCP-funded properties that are incurred prior to the grant award. (2) Lands or services previously used as match to a Federal grant. Any funds or in-kind contributions, including the value of donated lands or services, that have been previously used to satisfy the matching requirements of this program or that that have been or will be used to satisfy another Federal grant, may not be counted toward the non-Federal matching share. (3) Lands or services acquired with Federal funds. Unless otherwise provided by Federal law, the value of property, interests in property or services acquired with Federal funding may not be used as non-Federal match. (4) Cash contribution of Federal funds. Unless otherwise provided by Federal law, funding that originated from Federal sources may not be used as non-Federal match.

Intergovernmental Review: Applications under this program are subject to Executive Order 12372, “Intergovernmental Review of Federal Programs” for states that participate in this process. A list of the participating states and the clearinghouse points of contact can be found at http://www.whitehouse.gov/omb/grants/spoc.html.

FY10 Bay Watershed Education and Training Program, Adult and Community Watershed Education in the Monterey Bay

Summary Description: The California B-WET Program, Adult and Community Watershed Education, is a competitively based program that supports existing environmental education programs, fosters the growth of new programs, and encourages the development of partnerships among environmental education programs throughout the Monterey Bay watershed. Funded projects provide meaningful watershed education to adults and communities. The term meaningful watershed education is defined as outcome-based programs that educate citizens about their role in protecting water quality and demonstrate behavioral changes that improve water quality and promote environmental stewardship.

Funding Availability: This solicitation announces that approximately $200,000 may be available in FY 2010 in award amounts to be determined by the proposals and available funds. The Office of National Marine Sanctuaries anticipates that approximately 3-6 grants will be awarded with these funds and that typical project awards will range from $20,000 to $60,000. The California B-WET Program should not be considered a long-term source of funds; applicants must demonstrate how ongoing programs, once initiated, will be sustained.

There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: 33 U.S.C. 893 a(a).

Catalog of Federal Domestic Assistance (CFDA) Number: 11.429, Marine Sanctuary Program

Application Deadline: Applications must be received and validated by Grants.gov on or before 5 p.m. PST on February 12, 2010. Please Note: It may take Grants.gov up to two (2) business days to validate or reject the application. Please keep this in mind in developing your submission timeline. Both hard copy and electronic proposals received after that time will not be considered for funding and will be returned to the applicant.

Address for Submitting Proposals: Application packages should be submitted through Grants.gov. If an applicant does not have Internet access, the applicant should send the application package to: Seaberry Nachbar, B-WET Program Manager, Monterey Bay National Marine Sanctuary Office, 299 Foam Street, Monterey, CA 93940.

Information Contacts: Please visit the Office National Marine Sanctuaries B-WET Web site for further information at: http://sanctuaries.noaa.gov/BWET or contact Seaberry Nachbar, Monterey Bay National Marine Sanctuary Office; 299 Foam Street, Monterey, CA 93940, or by phone at 831-647-4204, or fax to 831-647-4250, or via Internet at seaberry.nachbar@noaa.gov.

Eligibility: Eligible applicants are institutions of higher education, nonprofit organizations, state or local government agencies, and Indian tribal governments. The Department of Commerce/National Oceanic and Atmospheric Administration (DOC/NOAA) is strongly committed to broadening the participation of historically black colleges and universities, Hispanic serving institutions, tribal colleges and universities, and institutions that service undeserved areas. The National Marine Sanctuary Program encourages proposals involving any of the above institutions.

Cost Sharing Requirements: No cost sharing is required under this program; however, the National Marine Sanctuary Program strongly encourages applicants to share as much of the costs of the award as possible. Funds from other Federal awards will not be accepted as matching funds. The nature of the contribution (cash versus in-kind) and the amount of matching funds will be taken into consideration in the review process with cash being the preferred method of contribution.

Intergovernmental Review: Applications under this program are not subject to Executive Order 12372, Intergovernmental Review of Federal Programs.

FY2010 Integrated Ocean Observing System Community Modeling Environment To Support a Super-Regional Test Bed

Summary Description: The Integrated Ocean Observing System (IOOS) is working to link national and regional observations (observations subsystem), data management (data management and communications subsystem), and modeling and analysis subsystem to provide required data and information on local to global scales to address IOOS seven societal goals of: (1) Improve predictions of climate change and weather and their effects on coastal communities and the nation, (2) Improve the safety and efficiency of maritime operations, (3) More effectively mitigate the effects of natural hazards, (4) Improve national and homeland security, (5) Reduce public health risks, (6) More effectively protect and restore healthy coastal ecosystems, and (7) Enable the sustained use of ocean and coastal resources.

The IOOS modeling and analysis (MA) subsystem supports the ocean, coastal and Great Lakes nowcasting/forecasting/hindcasting and decision making capabilities of IOOS that are needed to address these societal goals. IOOS observing subsystem and data management and communication subsystems are supporting elements for the MA system. Modeling expertise is available within the IOOS Regional Associations, other academic and research institutes, private sector entities, the Federal, local and state government. NOAA, along with other IOOS stakeholders, views the development of a community modeling environment that successfully demonstrates the capability for modeling scientists to share the use of a wide range of oceanic, coastal, atmospheric, hydrologic, and ecological models and associated data, tools and techniques that supports systematic testing, evaluation and transition as appropriate, into operations, as essential to a sustained and operational IOOS. This modeling environment should be designed with the potential to be used for a variety of different modeling problems and over different geographies.

The program priorities for this funding opportunity are to conduct a super-regional test bed demonstration of the community modeling environment by transitioning models, tools, toolkits and other capabilities to a Federal operational facility to improve the understanding, prediction, and mitigation of the consequences of extreme events and chronic conditions affecting the U.S. Atlantic and Gulf Coasts. Of particular interest are phenomena that intersect the mission goals of NOAA, other operational agencies and the IOOS Regional Associations. This demonstration should also include estimates of the potential costs and benefits of improvements in the current modeling systems at Federal operational agencies.

NOAA seeks proposals for a single cooperative agreement that will define and implement the community modeling environment and demonstration of a super-regional test bed. This test bed is a common environment in which identical variables, boundary conditions, initial conditions, parameterizations and other inputs used in various models to rigorously test and evaluate forecasting skill and the requirements needed for transition to a Federal operational facility or other entities as appropriate. The community environment and associated test bed must also enable data integration and dissemination, and enable scientists to share use of numerical models, observations, and tools; and in addition, provide an environment for identifying, prioritizing and resolving issues associated with interoperable coupling of a range of models such as coastal, oceanic, atmospheric, hydrologic and ecological. Such a test bed and community modeling environment should include no less than 20 academic partners and research institutions, and partnerships with appropriate Federal operational modeling groups to guarantee it is multi-disciplinary, inclusive of community-modeling, and able to address operational constraints inherent in transitioning models into an operational Federal environment.

Submitted proposals should address the following: (1) In collaboration with Federal partners, development of metrics and a system to evaluate the potential feasibility, costs, and benefits of improvement to existing operational capabilities of transitioning current and emerging community-based ocean, coastal and Great Lakes models into Federal operational facilities. Cooperative development of strategies and specific steps needed to transition existing models or modeling systems into Federal operational facilities including addressing issues of transition costs, reliability, expanded coverage, etc. (2) Define and transition into a Federal operational facility one or more models, tools, toolkits or other capabilities to advance an operational capability to predict an environmental extreme event in the U.S. Atlantic and Gulf Coasts. The transition to a Federal operational agency is not intended to imply a model, tool or other capability is operational, but rather has been implemented by the agency under pre-operational conditions. (3) Use and build upon existing infrastructure, models and expertise to maximize the benefits to the modeling community and leverage existing resources, capacities and capabilities. (4) Define roles and responsibilities of academic, government and private sector modeling experts, infrastructure and capabilities in the community modeling environment and test bed demonstration. (5) Demonstrate engagement of customer or end users that define the requirements for modeling improvements and provide feedback and evaluation from beginning to end of the project. (6) Conduct the end-to-end modeling process of data access and assimilation, interoperable model coupling, model output delivery, model testing and evaluation, analysis, visualization, skill assessment and user evaluation. (7) Describe suggested strategies for sustaining the modeling test bed infrastructure and expanding to other areas, models or problems.

Funding Availability: Total anticipated funding for the cooperative agreement is subject to the availability of appropriations. The anticipated federal funding for this announcement is up to $4,500,000.00 for a single award. While the full funding amount will be awarded in year one, applicants may submit proposals that identify how this project will be implemented within a 1-3 year period.

Statutory Authority: Statutory authority for this program is provided under the Integrated Coastal and Ocean Observation System Act of 2009, 33 U.S.C. 3601-3610.

Catalog of Federal Domestic Assistance (CFDA) Number: 11.012, Integrated Ocean Observing System (IOOS).

Application Deadline: Applications must be received no later than 5 p.m. EST, February 18, 2010. For applications submitted through http://grants.gov/, a date and time receipt indication by Grants.gov will be the basis of determining timeliness. Hard copy applications delivered by mail will be date and time stamped when they are received. Applications received after that time will not be reviewed or considered. Important: All applicants, both electronic and paper, should be aware that adequate time must be factored into applicant schedules for delivery of the application. Electronic applicants are advised that volume on Grants.gov is currently extremely heavy, and if Grants.gov is unable to accept applications electronically in a timely fashion, applicants are encouraged to exercise their option to submit applications in paper format. Paper applicants should allow adequate time to ensure a paper application will be received on time, taking into account that guaranteed overnight carriers are not always able to fulfill their guarantees.

Address for Submitting Proposals: If an applicant does not have Internet access, the applicant must submit through surface mail one set of originals (signed) and two copies of the proposals and related forms to the NOAA IOOS Program. No e-mail or fax copies will be accepted. Application packages for proposals are available through Grants.gov APPLY. Full proposal application packages submitted by mail must be received no later than the deadline. Any U.S. Postal Service correspondence should be sent to the attention of Regina Evans, NOAA IOOS; 1100 Wayne Avenue, Suite 1225, Silver Spring, Maryland 20910; or by phone at 301-427-2422, fax at 301-427-2073, or e-mail at Regina.Evans@noaa.gov.

Information Contacts: For questions regarding this announcement, contact: Regina Evans, NOAA IOOS; 1100 Wayne Avenue, Suite 1225, Silver Spring, Maryland 20910; or by phone at 301-427-2422, fax at 301-427-2073, or e-mail at Regina.Evans@noaa.gov.

Eligibility: Eligible funding applicants are institutions of higher education, non-profit and for-profit organizations, and state, local and Indian tribal governments. Federal agencies or institutions and foreign governments may not be the primary recipient of awards under this announcement, but are encouraged to partner with applicants when appropriate. If a federal partner is a NOAA office, the funds will be transferred internally. If the Federal partner is an agency other than NOAA, they must demonstrate that they have legal authority to accept funds in excess of their appropriation. Because they would be receiving funds from a non-Federal source, the Economy Act (31 U.S.C. 1535) would not be an appropriate authority.

Cost Sharing Requirements: There is no requirement for cost sharing or matching. NOAA appreciates that the proposers may utilize existing modeling and information technology investments to further extend the results of this funding opportunity. While a cost share of funding is not required, applicants are encouraged to provide a description of complementary funding and in-kind contributions from project partners so that the government has a more complete picture of the overall project and can better interpret progress reports and other project outputs.

Intergovernmental Review: Funding applications under the Center are subject to Executive Order 12372, “Intergovernmental Review of Federal Programs.” It is the state agency's responsibility to contact their state's Single Point of Contact (SPCO) to find out about and comply with the state's process under EO 12372. To assist the applicant, the names and addresses of the SPOCs are listed on the Office of Management and Budget's Web site http://www.whitehouse.gov/omb/grants/spoc.html.

Joint Hydrographic Center

Summary Description: The purpose of this notice is to solicit proposals for a single cooperative agreement between NOAA and an institution of higher learning to operate and maintain a Joint Hydrographic Center as authorized in the Ocean and Coastal Mapping Integration Act and the Hydrographic Services Improvement Act. Proposals submitted in response to this announcement should advance the purposes of the Acts including research and development of hydrographic technologies necessary to ensure safe and efficient navigation; research and development of innovative ocean and coastal mapping technologies, equipment, and data products; mapping of the United States Outer Continental Shelf and other regions; data processing for nontraditional data and uses; advancing the use of remote sensing technologies, for related issues, including mapping and assessment of essential fish habitat and of coral resources, ocean observations, and ocean exploration; and providing graduate education and training in ocean and coastal mapping sciences. The program priorities for this opportunity support NOAA's mission goal of: Support the Nation's commerce with information for safe, efficient, and environmentally sound transportation.

Funding Availability: This will be a 5-year, multiyear award. The intent is to make a single 5-year award. Total anticipated funding for this award is approximately $32,500,000 with approximately $6,500,000 to be released in FY 2010 and each subsequent year of the 5 years. This award and the subsequent annual releases of funds are subject to the availability of FY 2010 appropriations and the appropriations of each subsequent FY.

The initial award and subsequent annual release of funds will be adjusted based on available funding.

Statutory Authority: Statutory authority for this program is provided under 33 U.S.C. 883a and 883d, the Coastal and Ocean Mapping Integration Act, and the Hydrographic Services Improvement Act.

Catalog of Federal Domestic Assistance (CFDA) Number: 11.400, Geodetic Surveys and Services (Applications of the National Geodetic Ref System)

Application Deadline: Letters of Intent must be received by the Office of Coast Survey no later than 4 p.m. ET February 3, 2010 . Full proposals must be received by the Office of Coast Survey no later than 4 p.m. ET on March 5, 2010.

Address for Submitting Proposals: Letters of intent (LOI) may be sent via e-mail to gretchen.imahori@noaa.gov. Insert “FY 2010 Joint Hydrographic Center LOI” as the subject line of the e-mail. If hard-copy LOIs are submitted, an original and 3 copies should be sent to the attention of Gretchen Imahori at the Office of Coast Survey, 1315 East West Highway, SSMC3 Station 6715, Silver Spring, MD 20910-3282, tel. 301-713-2777 ext. 123. Full proposal application packages, including any letters of support, should be submitted through Grants.gov APPLY. The standard NOAA funding application package is available at www.grants.gov. Please be advised that potential funding applicants must register with Grants.gov before any application materials can be submitted. An organization's one time registration process may take up to three weeks to complete so please allow sufficient time to ensure applications are submitted before the closing date. The Grants.gov site contains directions for submitting an application, the application package (forms), and is also where the completed application is submitted. If an applicant does not have Internet access, one set of originals (signed) and 3 copies of the proposals and related forms should be mailed to the attention of Gretchen Imahori at the Office of Coast Survey, 1315 East West Highway, SSMC3 Station 6715, Silver Spring, MD 20910-3282, tel. 301-713-2777 ext. 123. No e-mail or fax copies of the full proposal will be accepted. Full proposal application packages, including any letters of support, should be submitted together in one package.

Information Contacts: For administrative and technical questions, contact Gretchen Imahori at the Office of Coast Survey, 1315 East West Highway, SSMC3 Station 6715, Silver Spring, MD 20910-3282, or contact her at 301-713-2777 ext. 123 or via e-mail gretchen.imahori@noaa.gov.

Eligibility: Eligible funding applicants are institutions of higher education in the United States. Federal agencies are not allowed to receive funds under this announcement but may serve as collaborative project partners and may contribute services in kind.

Cost Sharing Requirements: There is no requirement for cost sharing.

Intergovernmental Review: Applications under this program are not subject to Executive Order 12372, “Intergovernmental Review of Federal Programs.”

Marine Debris Prevention and Outreach Partnership Grants

Summary Description: The NOAA Marine Debris Program (MDP), mandated by the Marine Debris Research, Prevention and Reduction Act in 2006, has a lead role in addressing marine debris affecting the marine environment and navigation safety in the United States. The MDP defines marine debris as any persistent solid material that is manufactured or processed and directly or indirectly, intentionally or unintentionally, disposed of or abandoned into the marine environment or the Great Lakes. The MDP conducts reduction, prevention, and research activities, as well as supports grants, partnerships, cooperative agreements, and contracts to address marine debris. It has held regional, national, and international workshops and an information exchange forum, and established an interactive Web site (www.marinedebris.noaa.gov) which includes a nation-wide web educational campaign. The MDP invites the public to submit applications requesting funding to establish multi-year national and regional partnerships focusing on utilizing existing networks and expanding on existing resources to address marine debris through prevention, education, and outreach activities, and the dissemination and/or development of tools to support these activities. Partnerships are expected to catalyze the public or a target audience to address marine debris in a way that will benefit living marine resources and/or navigation safety. NOAA envisions working jointly on such partnerships through its Marine Debris Program to identify, evaluate, fund, and administer projects that address marine debris and help to restore NOAA trust resource species and habitats.

This document describes the types of marine debris partnerships that NOAA envisions establishing, portrays the qualities that NOAA has found to be ideal in previous partnerships, and describes criteria under which applications will be evaluated for funding consideration. Partnership applications selected through this announcement will be implemented through a cooperative agreement, and will involve joint selection of any multiple marine debris projects funded as sub-awards made through the partner organization. Funding requested to establish partnerships in FY2010 is expected to be greater than funds available for this purpose and the selection process is anticipated to be highly competitive. This is not a request for individual project proposals addressing marine debris, rather it is a focused effort to establish partnerships between the applicant and the MDP that will lead to joint projects addressing marine debris prevention and outreach. Funding is contingent upon the availability of Fiscal Year 2010 appropriations.

Funding Availability: Total anticipated funding for all partnership awards is approximately $500,000 and is subject to the availability of FY 2010 appropriations. Annual funding is anticipated to maintain partnerships for up to 3 years duration, but this is dependent upon the level of funding made available by Congress. Funding for subsequent years will also depend on the ability of partners to successfully perform partnership activities as stated in their applications. Multiple awards are anticipated from this announcement. The anticipated federal funding per partnership award (min-max) is approximately $20,000 to $150,000 per year. The anticipated number of partnerships ranges from one (1) to ten (10), approximately, and will be adjusted based on available funding. NOAA will not accept proposals with a single year budget under $15,000 or over $175,000 under this solicitation. Applicants can request increases to continue scaling up partnership activities in subsequent budget periods to a limit of 10% per year, however annual funding levels and any increases over FY 2010 levels for successful applicants will be dependent upon partnership success, regional priorities, and the level of funding provided by Congress in the future.

In accordance with the NOAA Marine Debris Program Grant Program Guidelines published on December 21, 2009 in the Federal Register, the NOAA Marine Debris Division Chief (Chief) will determine the proportion of funds available to the MDP on an annual basis that will be obligated to national and regional partnerships each year. The number of partnership awards to be made as a result of this solicitation will depend on the number of eligible applications received, the amount of funds requested for initiating partnerships by the applicants, the merit and ranking of the proposals, and the amount of funds made available to the MDP by Congress. NOAA anticipates that between 1 and 10 awards will be made as a result of this solicitation. There is no guarantee that sufficient funds will be available to initiate partnerships where funding has been recommended, and the number of national and regional partnerships established will be up to the discretion of the Chief. The exact amount of funds that may be awarded to work within a marine debris outreach partnership will be determined in pre-award negotiations between the applicant and NOAA representatives, and multi-year funding requests are expected to be funded incrementally on an annual basis. Publication of this document does not obligate NOAA to establish any specific partnership proposed or to obligate all or any parts of the available funds for partnership activities.

Statutory Authority: The Administrator is authorized under the under the Marine Debris Research, Prevention, and Reduction Act (MDRPR Act), 33 U.S.C. 1952, to provide grants and cooperative agreements to address marine debris.

Catalog of Federal Domestic Assistance (CFDA) Number: 11.463, Habitat Conservation

Application Deadline: Full proposals must be received and validated by Grants.gov, postmarked, or provided to a delivery service on or before 11:59 p.m. Eastern Time February 18, 2010. Validation or rejection of your application by Grants.gov may take up to 2 business days after submission. Please consider this process in developing your submission timeline. Use of a delivery service must be documented with a receipt. No facsimile or electronic mail applications will be accepted.

Address for Submitting Proposals: Applications should be submitted via www.grants.gov. If grants.gov cannot reasonably be used, applications must be postmarked, or provided to a delivery service and documented with a receipt, by January 30, 2010 and sent to: Attn: MD Prevention and Outreach Partnership Applications. NOAA Marine Debris Division (N/ORR), Office of Response and Restoration, N/ORR, 1305 East West Highway, 10th Floor, Silver Spring, MD 20910.

Information Contacts: For further information contact Sarah Morison at 301-713-2989, or by fax 301-713-4389, or via e-mail at Sarah.Morison@noaa.gov.

Eligibility: Eligible applicants are institutions of higher education, hospitals, other non-profits, commercial (for-profit) organizations, Regional Fishery Management Councils and Commissions, organizations under the jurisdiction of foreign governments, international organizations, state, local and Indian tribal governments whose applications propose to benefit NOAA trust resources. Applications from federal agencies or employees of federal agencies will not be considered. Federal agencies are strongly encouraged to work with states, non-governmental organizations, national service clubs or youth corps organizations and others that are eligible to apply. The Department of Commerce National Oceanic and Atmospheric Administration (DOC/NOAA) is strongly committed to broadening the participation of Historically Black Colleges and Universities, Hispanic Serving Institutions, and Tribal Colleges and Universities in its educational and research programs. The DOC/NOAA vision, mission, and goals are to achieve full participation by Minority Serving Institutions (MSI) in order to advance the development of human potential, to strengthen the nation's capacity to provide high-quality education, and to increase opportunities for MSIs to participate in, and benefit from, Federal financial assistance programs. DOC/NOAA encourages proposals for innovative national and regional partnerships involving MSIs according to the criteria in this document, to strengthen the capacity of MSIs to foster student careers, research and workforce competitiveness in addressing marine debris through identification, development, implementation and monitoring of marine debris projects on a national or regional scale.

Cost Sharing Requirements: A major goal of the MDP is to provide seed money to partnerships that leverage funds and other contributions from a broad public and private sector to implement locally, regionally or nationally important activities to benefit living marine resources and navigation safety. To this end, the MDRPR Act requires applicants to demonstrate a minimum 1:1 non-Federal match for MDP funds requested for the proposed partnership. In addition to formal match, NOAA strongly encourages applicants to leverage as much investment as possible. However, the MDRPR Act allows the Administrator to waive all or part of the matching requirement if the applicant can demonstrate that: (1) No reasonable means are available through which applicants can meet the matching requirement and (2) the probable benefit of such project outweighs the public interest in such matching requirement. In addition, the MDP may waive any requirement for matching funds by an Insular Area (Virgin Islands, Guam, American Samoa, the Trust Territory of the Pacific Islands, and the Government of the Northern Mariana Islands). Under 48 U.S.C.10.1469a(d.ii.i), any department or agency may waive any requirement for matching funds otherwise required by law to be provided by the Insular Area involved. Insular Area applicants wishing to waive the match requirement must include a letter specifically requesting the match waiver. All applicants should note that cost sharing is an element considered in Evaluation Criterion #4. “Project Costs.” Match can come from a variety of public and private sources and can include in-kind goods and services such as private boat use and volunteer labor. Applicants are permitted to combine contributions from non-federal partners, as long as such contributions are not being used to match any other funds and are available within the project period stated in the application. Federal sources cannot be considered for matching funds, but can be described in the budget narrative to demonstrate additional leverage. Applicants are permitted to combine contributions from multiple non-federal partners in order to meet the 1:1 match recommendation, as long as such contributions are not being used to match any other funds. Applicants are also permitted to apply federally negotiated indirect costs in excess of federal share limits as described in Section IV.E.2. “Indirect Costs” of the FFO.

Applicants should also note that the following activities, in general, will not be considered as match under project awards: (1) Activities that constitute legally required mitigation for the adverse effects of an activity regulated or otherwise governed by local, state or Federal law; (2) activities that constitute restoration for natural resource damages under Federal, state or local law; and (3) activities that are required by a separate consent decree, court order, statute or regulation. However, the MDRPR Act allows the Administrator to authorize, as appropriate, the non-Federal share of the cost of a project to include money paid pursuant to, or the value of any in-kind service performed under, an administrative order on consent or judicial consent decree that will remove or prevent marine debris. Applicants whose proposals are selected for funding will be bound by the percentage of cost sharing reflected in the award document signed by the NOAA Grants Officer. Successful applicants should be prepared to carefully document matching contributions, including the names of participating volunteers and the overall number of volunteer or community participation hours devoted to individual marine debris partnerships. Letters of commitment for any secured resources expected to be used as match for an award should be submitted as an attachment to the application.

Intergovernmental Review: Funding applications under NOAA are subject to Executive Order 12372, “Intergovernmental Review of Federal Programs.” It is the state agency's responsibility to contact their state's Single Point of Contact (SPCO) to find out about and comply with the state's process under EO 12372. To assist the applicant, the names and addresses of the SPOCs are listed on the Office of Management and Budget's Web site http://www.whitehouse.gov/omb/grants/spoc.html.

National Weather Service (NWS)

NWS Severe Weather Program

Summary Description: This funding opportunity will support a study that evaluates how customers and the public receive and interpret operational products, and then make critical decisions. The study should apply social science research techniques to evaluate the effectiveness of current operational products, including graphics and uncertainty information, and to suggest more effective alternatives. It is expected the results of this study will be of interest to operational units, as well as emergency managers, public officials, and the weather enterprise as a whole.

Funding Availability: The total funding amount available for proposals is anticipated to be approximately $125,000. However, there is no appropriation of funds at this time and no guarantee that there will be. An individual annual award in the form of a cooperative agreement is limited to a maximum of $125,000 for one year. We anticipate making one award.

Statutory Authority: Authority for the Severe Weather program is provided by the following: 15 U.S.C. 313; 49 U.S.C. 44720 (b); 33 U.S.C. 883d; 15 U.S.C. 2904; 15 U.S.C. 2934.

Catalog of Federal Domestic Assistance (CFDA) Number: 11.467, Meteorologic and Hydrologic Modernization Development

Application Deadline: Full proposals must be received by Grants.gov or by mail on or before 5 p.m. EDT, March 1, 2010. For proposals submitted through grants.gov, a date and time receipt indication is included and will be the basis of determining timeliness. Please note: Validation or rejection of your application by Grants.gov may take up to 2 business days after submission. Please consider this process in developing your submission timeline. Hard copy proposals will be date and time stamped when they are received in the program office. Applications received after the deadline will be rejected/returned to the sender without further consideration. No facsimile or electronic mail applications will be accepted.

Address for Submitting Proposals: Proposals should be submitted through www.grants.gov. For those organizations without internet access, proposals may be sent to Suzanne Lenihan, NOAA/NWS, 1325 East-West Highway, Room 14356, Silver Spring, Maryland 20910.

Information Contacts: The point of contact is Suzanne Lenihan, NOAA/NWS; 1325 East-West Highway, Room 14356; Silver Spring, Maryland 20910-3283, or by phone at 301-713-1792 ext. 121, by fax to 301-713-3107, or via e-mail at suzanne.lenihan@noaa.gov. An alternate point of contact is Jennifer Sprague, NOAA/NWS; 1325 East-West Highway, Room 11404; Silver Spring, Maryland 20910-3283, or by phone at 301-713-0217, by fax to 301-713-1239, or via e-mail at jennifer.sprague@noaa.gov. Questions concerning this announcement must be made via e-mail to suzanne.lenihan@noaa.gov or jennifer.sprague@noaa.gov.

Eligibility: Eligible applicants are institutions of higher education, other nonprofits, commercial organizations, foreign governments, organizations under the jurisdiction of foreign governments, and international organizations, state, local and Indian tribal governments.

Cost Sharing Requirements: No cost sharing is required under this program.

Intergovernmental Review: Applications under this program are not subject to Executive Order 12372, Intergovernmental Review of Federal Programs.

Tsunami Social Science Program

Summary Description: The Tsunami Program's mission is to provide reliable tsunami forecasts and warnings and promote community resilience and the program is committed to ensuring that all customers can receive, understand, and respond appropriately to NOAA forecast and warning products. The Tsunami Program recognizes the need to integrate social science information to support and improve its mission-related activities. This RFA requests social science research support to address three primary objectives: (1) Improve Tsunami Warning Center (TWC) products, including warnings, advisories, watches, and information statements, (2) Evaluate the Tsunami Ready Program Improvement, and (3) Assess previous and on-going tsunami-related social science studies including regional, state, and local efforts, to determine how to best integrate such information at the national level.

Funding Availability: The total funding amount available to the applicants over the course of the project is anticipated to be $500,000.00. It is anticipated there will be one recipient of this award. Individual annual awards are limited to a maximum of $166,667 per year for no more than three years.

Statutory Authority: 33 U.S.C. 3205.

Catalog of Federal Domestic Assistance (CFDA) Number: 11.467, Meteorologic and Hydrologic Modernization Development.

Application Deadline: February 19, 2010

Address for Submitting Proposals: Applications must be submitted through www.grants.gov unless an applicant does not have internet access. In that case, hard copies with original signatures may be sent to: Jenifer Rhoades, NOAA/NWS, 1325 East West Highway, Room 13118, Silver Spring, Maryland 20910, Phone: 301-713-1677 x102, e-mail: jenifer.rhoades@noaa.gov. E-mail and fax submissions will not be accepted.

Information Contacts: Jenifer Rhoades, NOAA/NWS, 1325 East West Highway, Room 13118, Silver Spring, Maryland 20910, Phone: 301-713-1677 x102, e-mail: jenifer.rhoades@noaa.gov. Lewis Kozlosky, NOAA/NWS, 1325 East West Highway, Room 13123, Silver Spring, Maryland 20910, Phone: 301-713-1677 x108, e-mail: lewis.kozlosky@noaa.gov. Jennifer Sprague, NWS Strategic Planning and Policy, NOAA/NWS, 1325 East West Highway, Room 11404, Silver Spring, Maryland 20910, Phone: 301-713-0217, e-mail: Jennifer.sprague@noaa.gov.

Eligibility: Eligible applicants are institutions of higher education, other nonprofits, commercial organizations, foreign governments, organizations under the jurisdiction of foreign governments, and international organizations, state, local and Indian tribal governments.

Cost Sharing Requirements: No cost sharing is required under this program.

Intergovernmental Review: Applications under this program are not subject to Executive Order 12372, Intergovernmental Review of Federal Programs.

Oceanic and Atmospheric Research (OAR)

NOAA Marine Aquaculture Initiative 2010.

Summary Description: The National Oceanic and Atmospheric Administration (NOAA) is seeking preliminary proposals and full proposals for a two-level competition supporting the development of environmentally and economically sustainable ocean, coastal, or Great Lakes aquaculture. This competition falls under the NOAA Mission to Protect, Restore and Manage the Use of Coastal and Ocean Resources Through Ecosystem-Based Management. Small grant projects will support regional or national outreach or informational dissemination activities including, but not limited to, symposia, conferences, web resources and synthesis publications dealing with important marine aquaculture issues, with an emphasis on evaluating the social, economic and environmental impacts of marine aquaculture on local coastal communities. Large grant projects will support innovative, applied research that results in short-term implementation of technologies that advance economically and environmentally sustainable marine aquaculture.

The top priorities for large grant and small grant projects FY 2010 and FY 2011 are: (1) Development of technologies and practices to advance integrated multi-trophic systems, (2) development of environmental and carrying capacity models and GIS tools to aid site selection for new facilities in the context of marine spatial planning and coastal management, and (3) development of alternative feedstuffs and diets that reduce the use of marine forage fish for marine culture species. Large grant projects that involve multiple partners (e.g., industry, academia, and community collaboration), outreach, and specific resource leveraging are encouraged and will be given higher rank and consideration.

Projects funded under this competition must support the NOAA Five-Year Research Plan performance objective to increase environmentally sound aquaculture production and NOAA's broader goals for its marine aquaculture program to: (a) Establish a comprehensive regulatory program for the conduct of marine aquaculture operations; (b) Develop appropriate technologies to support commercial marine aquaculture and enhancement of wild stocks; (c) Establish and implement procedures for the environmental assessment and monitoring of marine aquaculture activities; (d) Conduct education and outreach activities to establish a well informed public on marine aquaculture; and (e) Meet international obligations to promote environmentally sustainable practices for the conduct of marine aquaculture. Accomplishment of these goals should lead to a well-managed marine aquaculture industry in the United States; a well informed public that understands U.S. aquaculture issues, and improved access to the latest aquaculture research results.

Funding Availability: Depending on the FY 2010 and FY 2011 Congressional appropriations and the quality of proposals, NOAA expects to have available up to $4 million for FY 2010 and FY 2011, with individual small grant projects up to $50,000 for a two-year period; and large grant projects up to $500,000 for a two-year period. Some funds in FY 2011 may be used to finish out projects started in FY 2010. We intend to fund projects for the full two-year project period (2010 and 2011) using FY 2010 funds. However, some funds in FY 2011 may be used to complete projects started in FY 2010. In addition we may use FY 2011 funds to start other two year projects identified through this competition. We also reserve the option to use some FY 2012 funds to finish projects started in FY 2011. It is anticipated that we will make approximately three small grant awards and five large grant awards over the two-year cycle.

Statutory Authority: 33 U.S.C. 1121 et seq.

Catalog of Federal Domestic Assistance (CFDA) Number: 11.417, Sea Grant Support.

Application Deadline: This is a two-level competition covering fiscal years 2010 and 2011. NOAA administers a biennial competition for marine aquaculture projects. This announcement is for the 2010-2011 cycle. This Federal Funding Opportunity includes information on application and criteria for two levels of grant proposal. “Small grants” are defined as those that request up to $50,000 in federal funding for a two-year period. “Large grants” are those that request $50,001-$500,000 in federal funding for a two-year period. The timing of the application deadlines and review period differs for proposals submitted under each level. Small grant projects only require a full proposal. Small grant full proposals must be received and validated by Grants.gov on or before by 4 p.m. EST on December 3, 2009. Large grants require both a preliminary and a full proposal. Large grant preliminary proposals must be received by 4 p.m. EST on August 25, 2009. Feedback for large grant preliminary proposals is anticipated to be provided by NOAA to project applicants by October 14, 2009. Large grant full proposals must be received and validated by Grants.gov on or before 4 p.m. EST on December 10, 2009. The anticipated start date for both small grant and large grant projects is June 1, 2010.

Address for Submitting Proposals: Full proposals must be submitted through Grants.gov. Preliminary proposals for large grants must be sent via electronic mail to oar.hq.sg.aquaculture@noaa.gov. For those applicants without proven internet access, preliminary and full proposals can be sent by hardcopy to Dr. Gene Kim,: NOAA Sea Grant; 1315 East-West Highway, SSMC3, R/SG; Silver Spring, MD 20910. Facsimiles will not be accepted.

Information Contacts: Address to submit large grant preliminary proposals: oar.hq.sg.aquaculture@noaa.gov. Agency contact for information regarding the NOAA Marine Aquaculture Initiative: Dr. Gene Kim, 301-734-1281; via e-mail at Gene.Kim@noaa.gov, Mailing Address: NOAA Sea Grant; 1315 East-West Highway, SSMC3, R/SG; Silver Spring, MD 20910. No facsimiles will be accepted.

Eligibility: Institutions of higher education, nonprofit organizations, commercial organizations, Federal, State, local and Indian tribal governments and individuals are eligible. Only those who submit preliminary proposals by the preliminary proposal deadline are eligible to submit large grant full proposals. Small grant projects do not require preliminary proposals, but do require a full proposal. Please note: Before non-NOAA Federal applicants may be funded, they must demonstrate that they have legal authority to receive funds from another Federal agency in excess of their appropriation. Because this announcement is not proposing to procure goods or services from applicants, the Economy Act (31 U.S.C. 1535) is not an appropriate legal basis for federal eligibility.

Cost Sharing Requirements: Matching funds are NOT required. However, non-federal matching funds offered by the applicant will be considered positively in the Evaluation Criteria of Project Costs. Further, those proposals that combine resources from different institutions (e.g., private industry, universities, State agencies, foundations) to address national or regional issues will be considered in relation to Criteria One (Impacts) and Four (Project Cost and Budget) in this solicitation. Any matching funds offered by the applicant must be used as proposed and tracked and reported as a condition of the award.

Intergovernmental Review: Applications under this Program are not subject to Executive Order 12372, “Intergovernmental Review of Federal Programs.”

Office of the Under Secretary (USEC)

Dr. Nancy Foster Scholarship Program

Summary Description: The Dr. Nancy Foster Scholarship Program provides support for independent graduate-level studies in oceanography, marine biology or maritime archaeology (including all science, engineering, and resource management of ocean and coastal areas), particularly to women and minorities. Individuals who are U.S. citizens and are applying to or have been accepted to a graduate program at a U.S. accredited institution may apply. Scholarship selections are based on academic excellence, letters of recommendations, research and career goals, and financial need. Applicants must have and maintain a minimum 3.0 grade point average each term and cumulatively and maintain full-time student status for the duration of the appointment. Dr. Nancy Foster Scholarships may provide, subject to appropriations, yearly support of up to $42,000 per student (a 12-month stipend of $30,000 in addition to an education allowance of up to $12,000), and up to $10,000 support for a four to six week research collaboration at a NOAA facility. A maximum of $94,000 may be provided to masters students (up to 2 years of support and one research collaboration opportunity) and up to $188,000 may be provided to doctoral students (up to 4 years of support and two research collaboration opportunities). Dr. Nancy Foster Scholarship Program recipients will travel to Silver Spring, MD, during the week of May 31, 2010, for a NOAA Orientation and to meet with National Marine Sanctuaries Program staff. Awards will include travel expenses to attend the mandatory Scholarship Program orientation. Dr. Nancy Foster Scholarship recipients will also be required to participate in a research collaboration at a NOAA facility. Master`s candidates will be supported for one research collaboration opportunity and Doctoral candidates will be supported for up to two research collaboration opportunities over the duration of the scholarship.

The research collaboration opportunity is designed to allow scholars to conduct their research at a NOAA facility and on NOAA mission research for four to six weeks. Scholars are required to provide their own health insurance coverage during the research collaboration. Federal support for the research opportunity may be used toward allowable travel costs such as: travel to and from the NOAA facility, housing, and per diem; while conducting research at the NOAA facility. Applicants who are awarded the Nancy Foster Scholarship will identify their research collaboration opportunity(s) topic and NOAA facility during the initial scholarship year. NOAA approval is required prior to embarking on the research collaboration. Additional Information about the scholarship can be obtained in the Federal Funding Opportunity announcement.

Funding Availability: Subject to appropriations, approximately $500,000 will be available for FY 2010. Up to 10 new awards may be made, based on the availability of funds. The Dr. Nancy Foster Scholarship Program provides yearly support of up to $42,000 per student (a 12-month stipend of $30,000 in addition to a tuition allowance of up to $12,000) and up to $10,000 support for a four to six week research collaboration at a NOAA facility. A maximum of $94,000 may be provided to masters students (up to 2 years of support and one research collaboration opportunity) and up to $188,000 may be provided to doctoral students (up to 4 years of support and up to two research collaboration opportunities). Travel support will also be provided to Dr. Nancy Foster Scholarship Program recipients to attend a NOAA orientation in Silver Spring, MD, where they will also meet with National Marine Sanctuaries Program leadership and staff.

Statutory Authority: 16 U.S.C. 1445c-1 and 16 U.S.C. 1445c.

Catalog of Federal Domestic Assistance (CFDA) Number: 11.481, Educational Partnership Program

Application Deadline: Completed applications must be received by the Program Manager between January 1, 2010, and March 17, 2010, at 5 p.m. Eastern Standard Time. Please Note: All applicants, both electronic and paper, should be aware that adequate time must be factored into applicant schedules for delivery of the application. It may take Grants.gov up to two (2) business days to validate or reject the application. Please keep this in mind in developing your submission timeline. Electronic applicants are advised that volume on Grants.gov can be extremely heavy resulting in further delays. If Grants.gov is unable to accept applications electronically in a timely fashion, applicants are encouraged to exercise their option to submit applications in paper format. Paper applicants should allow adequate time to ensure a paper application is received on time, taking into account that guaranteed overnight carriers are not always able to fulfill their guarantees.

Address for Submitting Proposals: Except for institute certification, transcripts, and letters of recommendation, as discussed in Sections IV.B.6., IV.B.7, and IV.B.8. of the FFO, respectively, applications must be submitted through Grants.gov. If an applicant does not have internet access to complete the application through Grants.gov, hard copy applications may be submitted in one envelope to: Dr. Nancy Foster Scholarship Program Attn: Dr. Priti Brahma NOAA Office of Education 1315 East West Highway SSMC3, Room 10725 Silver Spring, MD 20910. Failure to submit all application items, except transcripts and letters of recommendation, in one envelope will result in disqualification of the application.

Information Contacts: Send requests for information to fosterscholars@noaa.gov or mail requests to Dr. Nancy Foster Scholarship Program, ATTN: Dr. Priti Brahma, Office of Education, 1315 East-West Highway, SSMC3, Room 10725, Silver Spring, MD 20910.

Eligibility: Only individuals who are United States citizens currently pursuing a masters or doctoral level degree in oceanography, marine biology or maritime archaeology (including all science, engineering, and resource management of ocean and coastal areas) at a U.S. accredited graduate institution are eligible for an award under this scholarship program. In addition, students must have and maintain a minimum cumulative and term grade point average of 3.0 and maintain full-time student status for every term and for the duration of their award. Universities or other organizations may not apply on behalf of an individual. Prospective scholars do not need to be enrolled in a graduate program at the time of application, but must be admitted to a graduate level program in order to be awarded this scholarship. Eligibility must be maintained for each succeeding year of support and annual reporting requirements, to be specified at a later date, will apply.

Cost Sharing Requirements: There are no matching requirements for this award.

Intergovernmental Review: Applications under this program are not subject to Executive Order 12372, Intergovernmental Review of Federal Programs.

Environmental Literacy Grants for Informal/Nonformal Science Education

Summary Description: The goal of this funding opportunity is to support projects that engage the public in educational activities that utilize emerging and/or advanced technologies and leverage NOAA assets to improve understanding, and stewardship of the local and global environment. There is specific interest in projects that use emerging and/or advanced technologies to (1) facilitate outdoor experiences involving scientific inquiry and exploration of the natural world apart from formal K-12 curricula and (2) visualize, display, and interpret data to improve understanding and provide a systems perspective of Earth's dynamic processes. This program has two priorities. Priority 1 is for large-scale projects that occur over a longer duration with regional to national implementation. Priority 2 is for small-scale projects that occur over a shorter duration with local to regional implementation. Funded projects will be between one and five years in duration. This program meets NOAA's Mission Support goal to provide critical support for NOAA's mission. It is anticipated that awards under this announcement will be made by September 30, 2010 and that projects funded under this announcement will have a start date no earlier than October 1, 2010. Note: a PDF version of this announcement is available at http://www.oesd.noaa.gov/funding_opps.html.

Funding Availability: NOAA anticipates the availability of approximately $7,500,000 of total Federal financial assistance in FY 2010 and FY 2011 anticipated for Environmental Literacy Grants for informal/nonformal science education. Approximately 5 to 10 awards in the form of grants or cooperative agreements will be made. For Priority 1, the total Federal amount that may be requested from NOAA shall not exceed $1,250,000 for all years including direct and indirect costs. The minimum Federal amount that must be requested from NOAA for all years for the direct and indirect costs for this priority is $500,001. Applications requesting Federal support from NOAA of more than $1,250,000 or less than $500,001 total for all years will not be considered for funding. For Priority 2, the total Federal amount that may be requested from NOAA shall not exceed $500,000 for all years including direct and indirect costs. The minimum Federal amount that must be requested from NOAA for all years for the direct and indirect costs for this priority is $200,000. Applications requesting Federal support from NOAA of less than $200,000 or more than $500,000 total for all years will not be considered for funding. The amount of funding available through this announcement will be dependent upon final FY 10 and FY 11 appropriations. Publication of this notice does not oblige DOC/NOAA to award any specific project or to obligate any available funds. It is likely that there will be no additional funding opportunity issued for these types of projects in FY 11. If an applicant incurs any costs prior to receiving an award agreement from an authorized NOAA Grants Officer, the applicant would do so solely at one's own risk of such costs not being included under the award. The exact amount of funds that may be awarded will be determined in pre-award negotiations between the applicant and NOAA representatives.

Statutory Authority: Authority for this program is provided by the 33 U.S.C. 893a(a).

Catalog of Federal Domestic Assistance (CFDA) Number: 11.008, Mission-Related Education Awards.

Application Deadline: The deadline for letters of intent is 5:00 PM EST February 16, 2010. The deadline for applications is 5 p.m. EDT on April 6, 2010. Applications submitted through Grants.gov are automatically date/time stamped when they are validated and submitted to the Agency. Hard copy applications must be provided to an expedited shipping service by the deadline and proof of this must be provided by the applicant. Please Note: When submitting through Grants.gov, you will receive 2 e-mails. An initial e-mail will be sent to confirm your attempt to submit a proposal. This is NOT a confirmation of acceptance of your application. It may take Grants.gov up to two (2) business days to validate or reject the application and send you a second e-mail. Please keep this in mind in developing your submission timeline. An informational teleconference with the program officers will occur on January 21st 2010 (time TBD). Interested applicants should register by contacting oed.grants@noaa.gov and include in the Subject line of the e-mail: “Interested in FFO Teleconference—Need Details” and provide the interested parties name, institution and telephone number in the body of the e-mail. Whenever possible people from the same institution should try to call in through the same phone line.

Address for Submitting Proposals: Address to submit letters of intent: Letters of intent must be submitted by e-mail to oed.grants@noaa.gov. If applicant does not have Internet access, a hard copy of the letter will be accepted and should be delivered to: Stacey Rudolph, Dept. of Commerce, NOAA Office of Education, 1401 Constitution Avenue NW, HCHB 6863, Washington, DC 20230; Telephone: 202-482-3739. Please note: hard copy applications submitted via the US Postal Service can take up to 4 weeks to reach this office; therefore applicants are advised to send hard copy applications via expedited shipping methods (e.g., Airborne Express, DHL, Fed Ex, UPS). Address to submit applications: Applications must be submitted through Grants.gov APPLY (http://www.grants.gov). However, if an applicant does not have Internet access or Grants.gov is overwhelmed with traffic, hard copy applications will be accepted and should be delivered to: Stacey Rudolph, Dept. of Commerce, NOAA Office of Education, 1401 Constitution Avenue NW, HCHB 6863, Washington, DC 20230; Telephone: 202-482-3739. Please note: hard copy applications submitted via the US Postal Service can take up to 4 weeks to reach this office; therefore applicants are advised to send hard copy applications via expedited shipping methods (e.g., Airborne Express, DHL, Fed Ex, UPS).—See the Office of Education's frequently asked questions site: http://www.oesd.noaa.gov/elg/elg_faqs.html for more details.

Information Contacts: Please visit the OEd Web site for further information at http://www.oesd.noaa.gov/funding_opps.html or contact the Program Officers: Carrie McDougall at 202-482-0875; or Sarah Schoedinger at 704-370-3528; or John McLaughlin at 202-482-2893 or by e-mailing any of them at oed.grants@noaa.gov. Projects involving spherical display systems require consultation with John McLaughlin, john.mclaughlin@noaa.gov, 202-482-2893 or Carrie McDougall carrie.mcdougall@noaa.gov, 202-482-0875 prior to submission of the application. For those applicants without Internet access, hard copies of referenced documents may be requested from NOAA's Office of Education by contacting Stacey Rudolph at 202-482-3739 or sending a letter to: Stacey Rudolph, Dept. of Commerce, NOAA Office of Education, 1401 Constitution Avenue NW., HCHB 6863, Washington, DC 20230; Telephone: 202-482-3739.

Eligibility: Eligible applicants are institutions of higher education, other nonprofits, and state, local and Indian tribal governments in the United States. For-profit organizations, K-12 public and independent schools and school systems, foreign institutions, foreign organizations and foreign government agencies are not eligible to apply. For-profit and foreign organizations can be project partners. Federal agencies are not eligible to receive Federal assistance under this announcement, but may be project partners. The Department of Commerce/National Oceanic and Atmospheric Administration (DOC/NOAA) is strongly committed to increasing the participation of Minority Serving Institutions (MSIs), i.e., Historically Black Colleges and Universities, Hispanic-serving institutions, Tribal colleges and universities, Alaskan Native and Native Hawaiian institutions, and institutions that work in underserved communities. Applications are encouraged that involve any of the above types of institutions. An individual may apply only once as principal investigator (PI) through this funding opportunity. However institutions may submit more than one application and individuals may serve as co-PIs or key personnel on more than one application.

Cost Sharing Requirements: There is no cost share requirement.

Intergovernmental Review: Applications submitted to this funding opportunity are not subject to Executive Order 12372, Intergovernmental Review of Federal Programs. Financial Assistance to Establish five NOAA Cooperative Science Centers at Minority Serving Institutions Announcement.

Summary Description: The purpose of this document is to announce to the public that in the spring of 2010, NOAA's Office of Education (OEd), Educational Partnership Program (EPP) with MSIs anticipates soliciting applications from accredited postsecondary MSIs to establish five NOAA Cooperative Science Centers (CSCs). These five Centers are designed to create collaborative partnerships among MSIs and NOAA's five Line Offices (LOs) including: National Environmental Satellite, Data, and Information Service (NESDIS); National Marine Fisheries Service (NMFS); National Weather Service (NWS); National Ocean Service (NOS); and, Office of Oceanic and Atmospheric Research (OAR). NOAA's mission as stated in the FY2009—2014 NOAA Strategic Plan, is understand and predict changes in Earth's environment and conserve and manage coastal and marine resources to meet our nation's economic, social, and environmental needs. Additional information about NOAA may be found on the Web site: www.noaa.gov. Each NOAA Cooperative Science Center must conduct research and education that directly supports NOAA's mission. The purpose of these Centers at Minority Serving Institutions is to: (1) Conduct research in collaboration with NOAA to better understand the significance of changes in the Earth's ocean, coasts, Great Lakes, weather and climate; (2) educate students in science, technology, engineering, and mathematics (STEM) related to the Centers' research to expand the size and diversity of NOAA and the nations STEM workforce; and, (3) build capacity and sustainability at all Center institutions. The Centers are to collaborate with NOAA by partnering with NOAA employees to conduct research and education that supports NOAA's mission. The Centers are to leverage this research and education to train and graduate students in NOAA-mission STEM fields. The Centers are to build sustainable capacity, including upgraded lab facilities, additional faculty and other research capacity that will enhance their ability to conduct NOAA research and education that contributes to a pipeline of students trained in STEM fields. The EPP is designed to enhance capacity at MSIs that educate, train, and graduate students in STEM and serve the purpose of increasing environmental literacy by establishing partnerships with academia, the private sector, and other Federal, state, tribal and local agencies. The program description of EPP may be found on the Web site: www.epp.noaa.gov. Please consult both the Federal Register Notice (FRN) and the Federal Funding Opportunity announcement that will be available spring 2010. Letters of Intent (LOI) are not required. However, interested parties may submit LOI to NOAA EPP no later than 2 p.m. Eastern Standard Time, January 22, 2010. The LOIs will assist NOAA in determining the number and locations for programmatic informational sessions. NOAA plans to announce dates of the programmatic information sessions in the spring 2010 FRN.

Funding Availability: Subject to Congressional appropriations, NOAA anticipates making awards in the summer 2011. Awards will be made annually for a five-year period and are subject to the availability of funds and acceptable performance.

Statutory Authority: 15 U.S.C. 1540, 49 U.S.C. 44720, 33 U.S.C. 883d, 33 U.S.C. 1442, 16 U.S.C. 1854(e), 16 U.S.C. 661, 16 U.S.C. 753(a), 16 U.S.C. 1451 et seq., 16 U.S.C. 1431, 33 U.S.C. 883a; Executive Orders 13230, 13256, 13270, 13336, and 13339; and, America Competes Act H.R. 2272.

Catalog of Federal Domestic Assistance (CFDA) Number: 11.481, Educational Partnership Program.

Application Deadline: The application is July 19, 2010.

Address for Submitting Proposals: Letters of Intent may be e-mailed to jacqueline.j.rousseau@noaa.gov or meka.laster@noaa.gov. Hard copies may be sent to Jacqueline Rousseau or Meka Laster, NOAA Office of Education, Educational Partnership Program, 1315 East-West Highway, Silver Spring, MD 20910. The LOI may be faxed to 301-713-9465 and directed to Jacqueline Rousseau or Meka Laster. In the Letters of Intent please include the following information: (1) The name of the MSI per the Department of Education web pages (see eligibility below); (2) the full name of the Ph.D.-granting institution; and, (3) the NOAA LO with which the Center will partner.

Information Contacts: Administrative and technical questions: Jacqueline Rousseau (Federal Program Officer), telephone 301-713-9437 ext. 124, fax 301-713-9465, or e-mail jacqueline.j.rousseau@noaa.gov. The alternative technical contact is Meka Laster, telephone 301-713-9437 ext. 147.

Eligibility: For the purpose of this program, Historically Black Colleges and Universities, Hispanic-Serving Institutions, Indian Tribally Controlled Colleges and Universities, Alaska Native-Serving Institutions, and Native Hawaiian-Serving Institutions, as identified on the 2007 United States Department of Education, Accredited Postsecondary Minority Institution list (http://www.ed.gov/about/offices/list/ocr/edlite-minorityinst.html and http://www.ed.gov/about/offices/list/ocr/edlite-minorityinst-list-tab.html) are eligible to apply. A proposed Center's principal academic institution must be an accredited MSI with a Ph.D. -granting degree program in a STEM field that supports NOAA's mission. Applications will not be accepted from non-profit organizations (that are not classified as Institutions of Higher Education), foundations, auxiliary services or any other entity submitted on behalf of MSIs.

Cost Sharing Requirements: Not Applicable.

Intergovernmental Review: Applications under this program are not subject to Executive Order 12372, “Intergovernmental Review of Federal Programs.”

National Environmental Satellite Data and Information Service (NESDIS)

Satellite Climate Data Record Program for 2010

Summary Description: For this program, NOAA announces an amendment to the Federal Funding Opportunity (NESDIS-NESDISPO-2009-2001589) entitled “Scientific Data Stewardship Project Office for 2009,” which was originally announced in the Federal Register on Monday, October 6, 2008 (73 FR 58129). This change concerns the Funding Availability published in the October 6, 2008 notice. In FY2010, the Satellite Climate Data Record Program (CDRP) does not plan to solicit or accept new proposals for FY2010 funding. FY2010 funds will be used to issue additional awards for applications submitted in response to the FY2009 announcement. All other requirements published in the original solicitation remain unchanged.

Funding Availability: The total anticipated federal funding in FY 2010 is $1,500,000.00 for new awards. The anticipated number of new awards is from 3 to 8.

Statutory Authority: 49 U.S.C. 44720(b) and 33 U.S.C. 883d.

Catalog of Federal Domestic Assistance (CFDA) Number: 11.440, Environmental Sciences, Applications, Data, and Education.

Application Deadline: N/A.

Address for Submitting Proposals: N/A.

Information Contacts: Satellite CDRP Manager: Jeff Privette, NOAA Satellite Climate Data Record Program Office, 151 Patton Ave, Asheville, NC 28801; Phone: 828-271-4331; E-mail: Jeff.Privette@noaa.gov. Satellite CDRP Grants Manager: Linda S. Statler, NOAA Satellite Climate Data Record Program Office, 151 Patton Ave, Asheville, NC 28801; Phone: 828-271-4657; E-mail: Linda.S.Statler@noaa.gov.

Eligibility: N/A.

Cost Sharing Requirements: N/A.

Intergovernmental Review: N/A.

VI. Request for comments on Proposed Implementation Guidelines for the Coral Reef Conservation Program

Summary

This is a request for comments on NOAA's proposed revisions to the Grant Program Implementation Guidelines (Guidelines) for the Coral Reef Conservation Program (Program) under the Coral Reef Conservation Act of 2000 (Act). The Act authorizes the Secretary of Commerce (Secretary), through the NOAA Administrator (Administrator) and subject to the availability of funds, to provide matching grants of financial assistance for coral reef conservation projects under the Act. NOAA has developed this set of proposed Implementation Guidelines for the Grant Program for Fiscal Year (FY) 2011 through FY 2015. NOAA proposes to utilize several existing grant programs and mechanisms to implement the Program. Specific Program information including available funding, dates, detailed application requirements and proposal evaluation criteria will be published annually in separate Federal Register solicitations. In accordance with the Act, NOAA developed a National Coral Reef Action Strategy (Strategy) in 2002 to provide an implementation plan to advance coral reef conservation, including a basis for funding allocations to be made under the Program. In response to an external program review in 2007, a new program manager, development of a “Roadmap” for the future of the Program, and publication in 2009 of the Program's new 20-year Goals and Objectives and International Strategy, the Program is revising its Grant Program Implementation Guidelines to align more closely with the Program's new direction. The Final Grant Program Implementation Guidelines will be published concurrently with the FY 2011 solicitations in mid-2010.The Department of Commerce Pre-Award Notification Requirements for Grants and Cooperative Agreements contained in the Federal Register notice of February 11, 2008 (73 FR 7696), will be applicable to solicitations under this Program. This request is not a solicitation for project proposals.

Dates

In order to be considered, comments on this document must be received by NOAA on or before February 12, 2010.

Addresses

Only written comments will be accepted. Please send your comments by mail, e-mail or fax to: Jenny Waddell, NOAA Coral Reef Conservation Program, Office of Ocean and Coastal Resource Management, NOAA National Ocean Service, 1305 East-West Highway, 10th floor, Silver Spring, MD 20910, Fax: 301-713-4389. E-mail transmission of comments should be directed to Jenny.Waddell@noaa.gov.

FURTHER INFORMATION CONTACT: For further information, contact Jenny Waddell, Grants and External Funding Coordinator, OCRM/Coral Conservation Division, NOAA National Ocean Service, 1305 East-West Highway, Silver Spring, MD 20910; 301-713-3155 extension 150, Internet: jenny.waddell@noaa.gov; or Jennifer Koss, NMFS Habitat Conservation, NOAA National Marine Fisheries Service, 1315 East-West Highway, Silver Spring, MD 20910; 301-713-3459 extension 195, E-mail: Jennifer.Koss@noaa.gov.

Supplementary Information:

Background

The Coral Reef Conservation Act of 2000 (16 U.S.C. 6401 et seq.) was enacted on December 14, 2000, for the following purposes:

1. To preserve, sustain and restore the condition of coral reef ecosystems;

2. To promote the wise management and sustainable use of coral reef ecosystems to benefit local communities and the Nation;

3. To develop sound scientific information on the condition of coral reef ecosystems and the threats to such ecosystems;

4. To assist in the preservation of coral reefs by supporting conservation programs, including projects that involve affected local communities and non-governmental organizations;

5. To provide financial resources for those programs and projects; and

6. To establish a formal mechanism for the collecting and allocating of monetary donations from the private sector to be used for coral reef conservation projects.

Under section 6403 of the Act, the Secretary, through the NOAA Administrator (Administrator) and subject to the availability of funds, is authorized to provide matching grants of financial assistance for coral reef conservation projects. Section 6408(c) of the Act authorizes up to $8,000,000 annually for projects under the Program. As required under section 6403(j) of the Act, NOAA developed Implementation Guidelines for the Program in 2002 and through this request, is refining those Guidelines. The revised guidelines proposed herein are intended to update and replace the existing guidelines in order to shift focus toward implementation of the Program's 20-year Goals and Objectives and International Strategy in an effort to narrow and sharpen the focus of the Program. NOAA is making the revised guidelines in this request available for public review and comment in advance of implementation.

Each fiscal year the Program will publish Federal Register notices to describe the availability of funds under each grant category and solicit project proposals. These annual solicitations provide greater detail on the year's program priorities, application process, and proposal evaluation criteria. This request is not a solicitation for project proposals.

Electronic Access

The Coral Reef Conservation Act of 2000 can be found on the Internet at: http://thomas.loc.gov/(Select Bill Text, then select 106th Congress, search on Bill Number HR 1653, select H.R. 1653.EH). Information on the U.S. Coral Reef Task Force, established June 11, 1998 under Executive Order 13089, can be found at: http://coralreef.gov. The National Coral Reef Action Strategy, which was published in 2002, is available at: http://coris.noaa.gov/activities/actionstrategy/. The Program's 20-year Goals and Objectives, which were published in 2009, can be found at: http://coralreef.noaa.gov/aboutcrcp/strategy/currentgoals/resources/3threats_go.pdf and the International Strategy, also published in 2009, is available at: http://coralreef.noaa.gov/aboutcrcp/strategy/currentgoals/resources/intl_strategy.pdf.

Coral Reef Conservation Program

The objective of the Grant Program is to provide financial assistance for coral reef conservation programs and projects consistent with the Act, the National Coral Reef Action Strategy, and the Program's 20-year Goals and Objectives and International Strategy, which were published in June 2009. NOAA's role in administering the Program is to strengthen and support the development and implementation of sound coral reef conservation projects, as well as ensure that the most beneficial projects are recommended for funding.

Applicant Eligibility Requirements

As per section 6403(c) of the Act, eligible applicants include: Any natural resource management authority of a state or other government authority with jurisdiction over coral reefs or whose activities directly or indirectly affect coral reefs or coral reef ecosystems, or educational or non-governmental institutions with demonstrated expertise in the conservation of coral reefs. Each category of funding under this Program, as described in Section VII of the FFO, encompasses a specific subgroup of eligible applicants.

As a matter of policy, funding of Federal agency activities under this Program will be a low priority unless such activities are an essential part of a cooperative project with other eligible governmental or non-governmental entities.

NOAA agencies are not eligible for funding under this Program, as funding for such activities is provided for under section 6406 of the Act (National Program).

Eligible Coral Reef Conservation Activities

As described in section 6403(g) of the Act, projects considered for funding under this Program must be consistent with the National Coral Reef Action Strategy. Concordance with the Program's 20-year Goals and Objectives and International Strategy guidance documents published in 2009 to narrow and sharpen the priorities included in the National Coral Reef Action Strategy will be an additional criterion in evaluating eligible projects and activities. In addition, coral reef management priorities identified by states, territories and commonwealths containing coral reef ecosystems through a formal management priority setting process will be considered when evaluating and selecting proposals once those processes have been completed in 2010. Further, per the same section, the Administrator may not approve a project proposal unless it will enhance the conservation of coral reefs by addressing at least one of the following:

1. Implementing coral conservation programs which promote sustainable development and ensure effective, long-term conservation of coral reefs;

2. Addressing the conflicts arising from the use of environments near coral reefs or from the use of corals, species associated with coral reefs, and coral products;

3. Enhancing compliance with laws that prohibit or regulate the taking of coral products or species associated with coral reefs or regulate the use and management of coral reef ecosystems;

4. Developing sound scientific information on the condition of coral reef ecosystems or the threats to such ecosystems, including factors that cause coral disease;

5. Promoting and assisting to implement cooperative coral reef conservation projects that involve affected local communities, nongovernmental organizations, or others in the private sector;

6. Increasing public knowledge and awareness of coral reef ecosystems and issues regarding their long term conservation;

7. Mapping the location and distribution of coral reefs;

8. Developing and implementing techniques to monitor and assess the status and condition of coral reefs;

9. Developing and implementing cost-effective methods to restore degraded coral reef ecosystems; or

10. Promoting ecologically sound navigation and anchorages near coral reefs.

Program Funding and Distribution

Section 6408(c) of the Act authorizes up to $8,000,000 annually for financial assistance awards administered by the Coral Reef Conservation Program. The number of individual awards to be made each year will depend on the total amount of funds appropriated for coral reef activities within NOAA and the portion of those funds that are allocated to this Program.

More information about each category of funding, including the total annual Program funding amount, suggested ranges for funding requests, and specific funding categories under which an applicant may choose to be considered, will be published in the Program's annual Federal Register solicitations.

Program funding awarded during any given fiscal year will be distributed, per section 6403(d) of the Act, in the following manner:

1. No less than 40 percent of funds available shall be awarded for coral reef conservation projects in the Pacific Ocean within the maritime areas and zones subject to the jurisdiction or control of the United States;

2. No less than 40 percent of funds available shall be awarded for coral reef conservation projects in the Atlantic Ocean, Gulf of Mexico and the Caribbean Sea within the maritime areas and zones subject to the jurisdiction or control of the United States; and

3. Remaining funds shall be awarded for projects that address emerging priorities or threats, including international priorities or threats, identified by the Administrator. When identifying emerging threats or priorities, the Administrator may consult with the Coral Reef Task Force.

Funding Categories and Mechanisms

In order to ensure adequate funding for each of the purposes envisioned under the Act and provide for a balanced overall Program, existing NOAA programs will be used to award funds in the funding categories described below. Each of the categories references the general activity and applicant eligibility requirements associated with proposals submitted therein. Specific activity and applicant eligibility information and proposal evaluation criteria for each category, consistent with Guideline sections: Applicant Eligibility Requirements, Program Funding and Distribution, Matching Funds, Application Process, and Project Review, will be published in each year's solicitations for proposals.

1. Coral Reef Management and Monitoring Cooperative Agreements support U.S. state and territorial government coral reef conservation management and monitoring activities, as described in section V(1-10) of the Guidelines (section 6403(g) of the Act) for the purposes of monitoring and comprehensively managing coral reef ecosystems and associated fisheries within their jurisdictions. Monitoring of coral reef ecosystems under this category includes the collection, analysis, and reporting of long-term coral reef monitoring data pursuant to scientifically valid methodologies and protocols. Eligibility to receive an award is limited to one agency in each state or territory with jurisdiction over coral reefs, as designated by the respective governors. These proposals will be reviewed and awarded by the National Ocean Service (NOS) Office of Ocean and Coastal Resource Management (OCRM) and awarded under Catalog of Federal Domestic Assistance (CFDA) number 11.419.

2. General Coral Reef Conservation Grants provide funding to non-governmental entities not eligible under other categories, for the purpose of implementing cooperative coral reef conservation, protection, restoration, or education projects, as described in section V(1-10) of the Guidelines (section 6403(g) of the Act) and consistent with the Program's 20-year Goals and Objectives, published in 2009. These proposals will be reviewed and awarded by the National Ocean Service (NOS) Office of Ocean and Coastal Resource Management (OCRM) under CFDA 11.419.

3. Fishery Management Council Cooperative Agreements support projects to develop, improve, or amend Fishery Management Plans to conserve, protect and restore coral reef habitats and associated fishery populations within the U.S. Exclusive Economic Zone, with the overall goal of improving the management of coral reefs and associated organisms through the avoidance of fishing impacts, ecosystem management or similar approaches and practices, as described in section V(3) of the Guidelines (section 6403(g)(3) of the Act) and consistent with the Program's 20-year Goals and Objectives, published in 2009. Eligible applicants include Regional Fishery Management Councils with jurisdiction over coral reefs, as established under the Magnuson-Stevens Fishery Conservation and Management Act (16 USC 1801 et seq.). These proposals will be reviewed and awarded by the NMFS Office of Habitat Conservation under CFDA 11.441.

4. International Grants and Cooperative Agreements will be awarded for the purpose of implementing cooperative coral reef conservation activities as described in section V(1-10) of the Guidelines (section 6403(g) of the Act) and consistent with priorities identified in the Program's International Strategy published in June 2009. Eligible applicants include international governmental and non-governmental entities, including those in the Freely Associated States of the Pacific. These proposals will be reviewed and awarded by the NOS International Programs under CFDA 11.463.

Annual solicitations published in the Federal Register will establish the range of funds available and specific evaluation criteria for each funding category. NOAA may add additional funding categories in the annual solicitation based on available funding and/or the Program's coral reef conservation priorities. Applicants will be required to specify in their application the category(s) under which they are applying for funding. Selected applications may be funded and awards administered by NOAA, through either NMFS or NOS. Generally, one award will be made for each proposal accepted for funding.

NOAA will determine the most appropriate funding mechanisms (grant, cooperative agreement, or interagency agreement) for selected individual projects, in consultation with the applicant, based on the degree of direct NOAA involvement with the project beyond the provision of financial assistance. Substantial federal involvement in cooperative agreements may include participation of NOAA/CRCP staff in the planning, development and implementation of projects and/or provision of technical assistance, and will vary based on the category of funding, type of project, and type and experience of the award recipient. Proposals from non-Federal applicants that are selected for funding will be funded either through a project grant or cooperative agreement. Selected Federal proposals will be funded through interagency agreements; however, under the Program, such agreements must include a local sponsor of the coral reef conservation project.

Matching Funds

As per section 6403(b)(1) of the Act, Federal funds for any coral conservation project funded under this Program may not exceed 50 percent of the total costs of such project, and NOAA strongly encourages applicants to leverage as much investment as possible. Matching funds may comprise a variety of public and private sources and can include in-kind contributions and other non-cash support, but all matching funds must be from non-Federal sources. Federal funds may not be considered as matching funds. For applicants who cannot meet the match requirement, as per section 6403(b)(2) of the Act, the Secretary may waive all or part of the matching requirement if the Administrator determines that the project meets the following two requirements:

1. No reasonable means are available through which an applicant can meet the matching requirement, and

2. The probable benefit of such project outweighs the public interest in such matching requirement.

Applicants must specify in their proposal the source and amount of the proposed match and may be asked to provide letters of commitment to confirm stated contributions. In the case of a waiver request, the applicant must provide a detailed justification explaining the need for the waiver, as described in section IX(6) of these Guidelines. Notwithstanding any other provision herein, and in accordance with 48 U.S.C. 1469a(d), this Program shall waive any requirement for local matching funds for any project under $200,000 (including in kind contributions) to the governments of Insular Areas, defined as the jurisdictions of the U.S. Virgin Islands, Guam, American Samoa, and the Commonwealth of the Northern Mariana Islands.

Application Process

NOAA will publish in the Federal Register annual notifications soliciting project proposals under the categories described above and pursuant to these Guidelines. Applications submitted in response to solicitation notices will be screened for eligibility and conformance with the Program Guidelines.

To submit a proposal, a complete NOAA standard grants application package must be filed in accordance with the guidelines in this document and instructions in the Department of Commerce Pre-Award Notification Requirements for Grants and Cooperative Agreements contained the Federal Register notice of February 11, 2008 (73 FR 7696).

A more detailed description of specific application requirements will be published in the annual solicitation; however, pursuant to section 6403(e) of the Act, each application must include the following elements:

1. A cover sheet with the name of the individual or entity responsible for conducting the project;

2. A description of the qualifications of the individual(s) who will conduct the project;

3. A succinct statement of the purpose(s) of the project, including the specific geographic location where the project will be carried out;

4. An estimate of the funds and time required to complete the project including: a detailed breakdown by category of cost estimates as they relate to specific aspects of the project, with appropriate justification for both the Federal and non-Federal shares;

5. Evidence of support for the project by appropriate representatives of states or other government jurisdictions in which the project will be conducted, including obtaining or proceeding to obtain all applicable State and/or Federal permits, consultations, and consistencies. U.S. state or territorial applicants must also provide evidence of coordination with all relevant state or territorial agencies, including a list of agencies consulted in developing the proposal;

6. Information regarding the amount of matching funding available to the applicant. In the case of a waiver request, the applicant must provide a detailed justification explaining the need for the waiver including attempts to obtain sources of matching funds, how the benefit of the project outweighs the public interest in providing match, and any other extenuating circumstances preventing the availability of match;

7. A description of how the project meets one or more of the goals and objectives stated in section V of the Guidelines (section 6403(g) of the Act) and contributes to the conservation needs identified in the Program's 20-year Goals and Objectives and/or addresses jurisdiction-specific management priorities established through CRCP's management priority setting processes; and

8. Any other information the Administrator considers necessary for evaluating the eligibility of the project for funding under this title.

Applicants must indicate under which category(s) (as described in the “Funding Categories and Mechanisms” section of these Guidelines) they are seeking funds, and ar encouraged to submit only one comprehensive application per solicitation.

Project Review

As per section 6203(f) of the Act, NOAA will review eligible coral reef conservation proposals using an external governmental review and merit-based peer review. After such reviews, NOAA will implement an internal ranking and selection process. The overall project review and selection process will include the following five steps:

1. NOAA will request and consider written comments on the proposal from each Federal agency, state government, or other government jurisdiction, including the relevant regional Fishery Management Councils established under the Magnuson-Stevens Fishery Conservation and Management Act (16 U.S.C. 1801 et seq.), or any National Marine Sanctuary, with jurisdiction or management authority over coral reef ecosystems in the area where the project is to be conducted. Pursuant to this requirement of the Act, NOAA will apply the following standard in requesting comments: (A) Proposals for projects in state or territorial waters, including Federal marine protected areas in such waters (e.g. National Marine Sanctuaries), will be submitted to that state or territorial government's designated U.S. Coral Reef Task Force point of contact for comment; (B) Proposals for projects in Federal waters will be submitted to the relevant Fishery Management Council for comment; (C) Proposals for projects which require Federal permits will be submitted to the Federal agency which issued the permit for comment; (D) Proposals for projects in Federal marine protected areas managed by Federal agencies (e.g. National Wildlife Refuges, National Parks, National Marine Sanctuaries, etc.) will be submitted to the respective Federal management authority for comment; and (E) NOAA will seek comments from other government entities, authorities, and/or jurisdictions, including international entities for projects proposed outside of U.S. waters, as necessary based on the nature and scope of the proposed project. Specifically, agencies will be requested to comment on: the extent to which the project is consistent with locally established coral reef conservation priorities and projects; whether the project has been coordinated with existing or planned projects; suggestions for improving project coordination and/or technical approach; and appropriate staff points of contact. Each entity will be provided 21 days to review and comment on subject proposals. Comments submitted will be part of the public record.

2. Each NOAA program office will provide for a merit-based peer review and standardized documentation of that review for proposals considered appropriate for funding under their respective category(s). Each proposal will be reviewed by a minimum of three individuals with knowledge of the subject of the proposal. Each reviewer will submit a separate and individual review and reviewers will not provide a consensus opinion. The identities of the peer reviewers will be kept anonymous to the degree permitted by law. Specific evaluation criteria for projects submitted under each funding category will be published in the category's respective annual Federal Register solicitation.

3. Each NOAA Coral Reef Conservation Program Office will subsequently implement an internal review process to rank each proposal that is appropriate for funding under their program based upon consideration of: comments and recommendations from the reviews under paragraphs (1) and (2), and their evaluation of each proposal consistent with the five following criteria: (A) Direct Benefit to Coral Reef Resources and Ecosystems. NOAA will evaluate proposals based on the potential of the project to meet goals and objectives stated in section 6403(g) of the Act. (B) Technical Merit and Adequacy of Implementation Plan. Proposals will be evaluated on the technical feasibility of the project and the qualifications of project leaders and/or partners based on demonstrated abilities to: (i) Deliver the conservation objective stated in the proposal; (ii) Provide educational benefits, where appropriate; (iii) Incorporate assessment of project success in terms of meeting the proposed objectives; (iv) Demonstrate that the conservation activity will be sustainable and long-lasting; (v) Provide assurance that implementation of the project will meet all state environmental laws and Federal consistency requirements by obtaining or proceeding to obtain applicable permits and consultations; and (C) Past Performance. Proposals will be evaluated on the previous accomplishments of the applicants in achieving coral reef conservation objectives similar to those outlined in section V. Eligible Coral Reef Conservation Activities of these Guidelines. This includes the timely submission of all required financial and progress reports and project products, including data and FGDC-compliant metadata records if applicable. Applicants submitting their first coral reef conservation project should document past experience in successfully carrying out related grant-funded activities; (D) Consistency with the National Coral Reef Action Strategy, the National Action Plan to Conserve Coral Reefs, and the Program's 20-year Goals and Objectives and International Strategy. Proposals will be evaluated on how well they align with the programmatic priorities outlined in these guidance documents and the jurisdiction-specific priorities established in the CRCP's management priority setting processes. Applicants are strongly encouraged to review all relevant documents and identify in their application the specific conservation objectives that their project proposal will achieve; and (E) Cost-effectiveness and Budget Justification. Proposals will be evaluated on their ability to demonstrate that significant benefit will be generated for the most reasonable cost. Projects will also be reviewed in terms of their need for funding and the ability of NOAA funds to act as a catalyst to implement projects and precipitate partnerships and other sources of funding to achieve conservation objectives. Preference will be given to projects that will be completed within a period of 12 months from the time the awards are distributed;

4. A NOAA review panel made up of representatives from each relevant Program office will review the project rankings from each program office and make consensus-based, final project selections and funding recommendations to be presented to the NOAA Administrator, or his designee, for final approval. The review panel and Administrator, or designee, will ensure that the Act requirements for geographic funding distribution and consistency with the overall Program goals have been met. NOAA reserves the right to consult with applicants, prior to making an award, to determine the exact amount of funds to be awarded, as well as the most appropriate funding category and mechanism under which to consider the project for funding; and

5. NOAA will provide written notification of a proposal's approval or disapproval to each applicant within 9 months of submitting a coral reef conservation proposal. Similarly, NOAA will also provide written notification of a project's approval to each State or other government jurisdiction that provided comments and/or reviews.

Definitions

In this Program:

1. Administrator means the Administrator of the National Oceanic and Atmospheric Administration.

2. Conservation means the use of methods and procedures necessary to preserve or sustain corals and associated species as diverse, viable, and self-perpetuating coral reef ecosystems, including all activities associated with resource management, such as assessment, conservation, protection, restoration, sustainable use, and management of habitat; mapping; habitat monitoring; assistance in the development of management strategies for marine protected areas and marine resources consistent with the National Marine Sanctuaries Act (16 U.S.C. 1431 et seq.) and the Magnuson-Stevens Fishery Conservation and Management Act (16 U.S.C. 1801 et seq.); law enforcement; conflict resolution initiatives; community outreach and education; and that promote safe and ecologically sound navigation.

3. Cooperative Agreement means a legal instrument reflecting a relationship between the Department of Commerce (DoC) and a recipient whenever: (1) The principal purpose of the relationship is to transfer money, property, services or anything of value to accomplish a public purpose of support or stimulation authorized by Federal statute, and (2) substantial involvement (e.g. collaboration, participation, or intervention by DoC in the management of the project) is anticipated between DoC and the recipient during performance of the contemplated activity.

4. Coral means species of the phylum Cnidaria, including—(A) all species of the orders Antipatharia (black corals), Scleractinia (stony corals), Gorgonacea (horny corals), Stolonifera (organpipe corals and others), Alcyanacea (soft corals), and Coenothecalia (blue coral), of the class Anthozoa; and (B) all species of the order Hydrocorallina (fire corals and hydrocorals) of the class Hydrozoa.

5. Coral Reef means any reefs or shoals composed primarily of corals.

6. Coral Reef Ecosystem means coral and other species of reef organisms (including reef plants) associated with coral reefs, and the non-living environmental factors that directly affect coral reefs, that together function as an ecological unit in nature.

7. Coral Products means any living or dead specimens, parts, or derivatives, or any product containing specimens, parts, or derivatives, of any species referred to in paragraph (3).

8. Grant means a legal instrument reflecting a relationship between DoC and a recipient whenever: (1) The principal purpose of the relationship is to transfer money, property, services, or anything of value in order to accomplish a public purpose of support or stimulation authorized by Federal statute, and (2) no substantial involvement is anticipated between DoC and the recipient during the performance of the contemplated activity.

9. Interagency Agreement, for the purposes of these Guidelines, means a written document containing specific provisions of governing authorities, responsibilities, and funding, entered into between NOAA and another Federal agency where NOAA is funding the other Federal agency, pursuant to the Act.

10. Secretary means the Secretary of Commerce.

11. State means any State of the United States that contains a coral reef ecosystem within its seaward boundaries, American Samoa, Guam, the Northern Mariana Islands, Puerto Rico, and the Virgin Islands, and any other territory or possession of the United States, or separate sovereign in free association with the United States, that contains a coral reef ecosystem within its seaward boundaries.

Classification: This is a continuing Program and is included in the Catalog of Federal Domestic Assistance under the Coastal Zone Management Act (11.419), NOS International Programs (11.463), and Habitat Conservation (11.441). The Program uses existing NOAA Federal assistance application package requirements per 15 CFR parts 14 and 24.

The program will determine NEPA compliance on a project by project basis.

This action has been determined to be not significant for purposes of Executive Order 12866.

This document contains collection-of-information requirements subject to the Paperwork Reduction Act (PRA). The use of Standard Forms 424, 424A, 424B, 424C, 424D, and SF-LLL has been approved by OMB under the respective control numbers 4040-0004/0348-0043; 4040-0006/0348-0044; 4040-0007/0348-0040; 4040-0008/0348-0041; 4040-0009/0348-0042; and 0348-0046. Notwithstanding any other provision of law, no person is required to respond to, nor shall any person be subject to a penalty for failure to comply with, a collection of information subject to the requirements of the PRA unless that collection of information displays a currently valid OMB control number. The proposed guidelines also contain new collection-of-information requirements subject to review and approval by the Office of Management and Budget (OMB) under the Paperwork Reduction Act. These requirements will be submitted to OMB for approval. Public reporting burden for these collections of information is estimated to average one hour per request for a matching funds waiver (section IX(6) of these Guidelines) and one hour per comment on proposals (section X(1) of these Guidelines), including the time for reviewing instructions, searching existing data sources, gathering and maintaining the data needed, and completing and reviewing the collection of information.

Public comment is sought regarding: Whether this proposed collection of information is necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection of information to NOAA Office of Ocean and Coastal Resource Management at the address above, and to OMB at the Office of Information and Regulatory Affairs, Office of Management and Budget, Washington, DC 20503 (Attention: NOAA Desk Officer).

Notwithstanding any other provision of law, no person is required to respond to, nor shall any person be subject to a penalty for failure to comply with, a collection of information subject to the Paperwork Reduction Act, unless that collection displays a currently valid OMB control number.

Classification

Limitation of Liability

Funding for programs listed in this notice is contingent upon the availability of Fiscal Year 2010 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002 Federal Register, (67 FR 66177) for additional information. Organizations can receive a DUNS number at no cost by calling the dedicated toll-free DUNS Number request line at 1-866-705-5711 or via the Internet http://www.dunandbradstreet.com.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/ including our NOAA Administrative Order 216-6 for NEPA, http://www.nepa.noaa.gov/NAO216—6—TOC.pdf, NEPA Questionnaire, http://www.nepa.noaa.gov/questionnaire.pdf, and the Council on Environmental Quality implementation regulations, http://ceq.eh.doe.gov/nepa/regs/ceq/toc— ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Compliance With Department of Commerce Bureau of Industry and Security Export Administration Regulations

(a) This clause applies to the extent that this financial assistance award involves access to export-controlled information or technology.

(b) In performing this financial assistance award, the recipient may gain access to export-controlled information or technology. The recipient is responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology.

(c) Definitions

(1) Deemed export. The Export Administration Regulations (EAR) define a deemed export as any release of technology or source code subject to the EAR to a foreign national, both in the United States and abroad. Such release is “deemed” to be an export to the home country of the foreign national. 15 CFR 734.2(b)(2)(ii).

(2) Export-controlled information and technology. Export-controlled information and technology is information and technology subject to the EAR (15 CFR parts 730 et seq.), implemented by the DOC Bureau of Industry and Security, or the International Traffic in Arms Regulations (ITAR) (22 CFR parts 120-130), implemented by the Department of State, respectively. This includes, but is not limited to, dual-use items, defense articles and any related assistance, services, software or technical data as defined in the EAR and ITAR.

(d) The recipient shall control access to all export-controlled information and technology that it possesses or that comes into its possession in performance of a financial assistance award, to ensure that access is restricted, or licensed, as required by applicable Federal laws, Executive Orders, and/or regulations.

(e) Nothing in the terms of this financial assistance award is intended to change, supersede, or waive the requirements of applicable Federal laws, Executive Orders or regulations.

(f) The recipient shall include this clause, including this paragraph (f), in all lower tier transactions (sub awards, contracts, and subcontracts) under the financial assistance award that may involve access to export-controlled information technology.

NOAA implementation of Homeland Security Presidential Directive—12

If the performance of a financial assistance award, if approved by NOAA, requires recipients to have physical access to Federal premises for more than 180 days or access to a Federal information system, any items or services delivered under a financial assistance award shall comply with the Department of Commerce personal identity verification procedures that implement Homeland Security Presidential Directive -12, FIPS PUB 201, and the Office of Management and Budget Memorandum M-05-24. The recipient shall insert this clause in all subawards or contracts when the subaward recipient or contractor is required to have physical access to a Federally controlled facility or access to a Federal information system.

The Department of Commerce Pre-Award Notification Requirements for Grants and Cooperative Agreements.

The Department of Commerce Pre-Award Notification Requirements for Grants and Cooperative Agreements contained in the Federal Register notice of February 11, 2008 (73 FR 7696) are applicable to this solicitation.

Paperwork Reduction Act

This document contains collection-of-information requirements subject to the Paperwork Reduction Act (PRA). The use of Standard Forms 424, 424A, 424B, 424C, 424D, and SF-LLL has been approved by OMB under the respective control numbers 4040-0004/0348-0043; 4040-0006/0348-0044; 4040-0007/0348-0040; 4040-0008/0348-0041; 4040-0009/0348-0042; and 0348-0046.

As part of its application process, the Coral Reef Conservation Program will be implementing new collection-of-information that is subject to review and approval by the Office of Management and Budget (OMB) under the Paperwork Reduction Act. These requirements will be submitted to OMB for approval. Public reporting burden for these collections of information is estimated to average one hour per request for a matching funds waiver (section IX(6) of these Guidelines) and one hour per comment on proposals (section X(1) of these Guidelines), including the time for reviewing instructions, searching existing data sources, gathering and maintaining the data needed, and completing and reviewing the information collection.

Public comment is sought regarding: Whether this proposed collection of information is necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection of information to NOAA Office of Ocean and Coastal Resource Management at the address above, and to OMB at the Office of Information and Regulatory Affairs, Office of Management and Budget, Washington, DC 20503 (Attention: NOAA Desk Officer).

Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: January 8, 2010.
Mitchell J. Ross,
Director, Acquisition and Grants Office, Contracting Officer, National Oceanic and Atmospheric Administration.

[FR Doc. 2010-721 Filed 1-15-10; 8:45 am]

BILLING CODE 3510-12-P